DEPARTMENT OF THE INTERIOR

Bureau of Safety and Environmental Enforcement

30 CFR Part 250

[Docket ID: BSEE-2022-0005 EEEE500000 245E1700D2 ET1SF0000.EAQ000]

RIN 1014-AA51

Oil and Gas and Sulfur Operations in the Outer Continental Shelf—Documents Incorporated by Reference

AGENCY: Bureau of Safety and Environmental Enforcement (BSEE), Interior.

ACTION: Proposed rule.

SUMMARY: BSEE proposes to incorporate documents by reference (Production Measurement Industry Standards and Safety Industry Standards, including one International Organization for Standardization/International Electrotechnical Commission standard) into the regulations governing oil, gas, and sulfur operations on the Outer Continental Shelf (OCS). Incorporation of these documents by reference would provide industry with up-to-date, minimum requirements for measuring oil and gas production volumes and enhancing safety. This would reduce uncertainty in the measurement of oil and gas production and update the minimum standards in the safety regulations.

DATES: Submit comments by February 28, 2024. BSEE is not obligated to consider or include in the Administrative Record for the final rule comments that we receive after the close of the comment period (see DATES) or comments delivered to an address other than those listed below (see ADDRESSES).

ADDRESSES: You may submit comments on the rulemaking by any of the following methods. Please use the Regulation Identifier Number 1014-AA51 as an identifier in your message. See also Public Availability of Comments under Procedural Matters.

• Federal eRulemaking Portal: www.regulations.gov. In the entry entitled, “Enter Keyword or ID,” enter BSEE-2022-0005 then click search. Follow the instructions to submit public comments and view supporting and related materials available for this rulemaking. BSEE may post all submitted comments.

Mail or hand-carry comments to BSEE: Attention: Regulations and Standards Branch, 45600 Woodland Road, VAE-ORP, Sterling, VA 20166. Please reference Regulation Identifier Number 1014-AA51, “Oil and Gas and Sulfur Operations in the Outer Continental Shelf—Documents Incorporated by Reference” in your comments and include your name and return address.

• All API standards that are safety-related and that are incorporated into Federal regulations are available to the public for free viewing online in the Incorporation by Reference Reading Room or for purchase on API's website at: https://publications.api.org and https://www.api.org/products-and-services/standards/purchase, respectively.

• For the convenience of the viewing public who may not wish to purchase or view the incorporated documents online, the documents may be inspected at BSEE's offices at: 1919 Smith Street, Suite 14042, Houston, Texas 77002 (phone: 1-844-259-4779), or 45600 Woodland Road, Sterling, Virginia 20166 (email: regs@bsee.gov), by appointment only.

• Send comments on the information collection in this rule to: Interior Desk Officer 1014-0028, Office of Management and Budget; 202-395-5806 (fax); email: oira_submission@omb.eop.gov. Please send a copy to BSEE at regs@bsee.gov.

Public Availability of Comments: Before including your address, phone number, email address, or other personal identifying information in your comment, you should be aware that your entire comment—including your personal identifying information—may be made publicly available at any time. In order for BSEE to withhold from disclosure your personal identifying information, you must identify any information contained in your comment submittal that, if released, would constitute a clearly unwarranted invasion of your personal privacy. You must also briefly describe any possible harmful consequence(s) of the disclosure of information, such as embarrassment, injury, or other harm. While you may request that we withhold your personal identifying information from public review, we cannot guarantee that we will be able to do so.

FOR FURTHER INFORMATION CONTACT: For technical or procedural questions contact Alton Payne at 713-220-9204, or David Izon at 703-787-1706, or by email: standards@bsee.gov.

SUPPLEMENTARY INFORMATION: BSEE uses standards, specifications, recommended practices (RPs), and other Standard Development Organizations (SDO) documents as a means of establishing requirements for activities on the OCS. This practice, known as incorporation by reference, allows BSEE to incorporate the requirements of technical documents into the regulations at 30 CFR 250.198 without increasing the volume of the Code of Federal Regulations (CFR). BSEE currently incorporates by reference the requirements found in 125 SDO documents into the offshore operating regulations.

The regulations found at 1 CFR part 51 govern how BSEE and other Federal agencies incorporate requirements found in various documents by reference. Agencies can only incorporate by reference through publication in the Federal Register. Agencies must also gain approval from the Director of the Federal Register for each publication incorporated by reference. Incorporation by reference of a document or publication is limited to the edition of the document or publication cited in the regulations. This means that newer editions, amendments, or revisions to documents already incorporated by reference in regulations are not part of BSEE regulations until they are specifically incorporated by reference.

BSEE reviews and analyzes potential standards for incorporation into the regulations. In some cases, BSEE may find that a specific standard has particular utility. As a result, BSEE may incorporate that particular standard or only that portion of a relevant standard. Standards that are considered for incorporation are subject to a side-by-side comparison of similar standards that are under consideration for proposed incorporation into BSEE's regulations. Once the BSEE review is complete, we make a final determination regarding whether incorporating a standard will properly address our regulatory concerns and either accept or reject the standard proposed for incorporation.

Availability of Incorporated Documents for Public Viewing

When a copyrighted technical industry standard is incorporated by reference into our regulations, BSEE must observe and protect that copyright. BSEE provides members of the public with website addresses where these standards may be accessed for viewing—sometimes for free and sometimes for a fee. Each SDO is the copyright owner and decides whether to charge a fee. The American Petroleum Institute (API) provides free read-only online public access to about 160 key industry standards. The free read-only online standards represent almost one-third of all API standards and include all that are safety-related or have been incorporated into Federal regulations, including the standards in this proposed rule. The newly incorporated standards will be available for review online for free, and hardcopies and printable versions will continue to be available for purchase.

We are also proposing to incorporate standards from other SDOs, including the American Gas Association (AGA), GPA Midstream Association (GPA), and American Society of Mechanical Engineers (ASME). Descriptions of the proposed standards below are adopted or paraphrased from the SDO publications. To purchase the copyrighted documents, the website addresses and telephone numbers are: for API Documents, contact IHS Markit at 1-800-854-7179 or 303-397-7956 or their website www.global.ihs.com and; for AGA Documents, contact Techstreet at 1-800-699-9277 or their website www.techstreet.com/contact.tmpl; for ASME Documents, contact the organization at 1-800-843-2763 or their website www.customercare@asme.org; and for GPA Documents, contact the organization at 1-918-493-3872 or their website www.Gpamidstream.org.

For the convenience of the viewing public who may not wish to purchase or view these documents online, they may be inspected at the Bureau of Safety and Environmental Enforcement, 1919 Smith Street, Suite 14042, Houston, Texas 77002; or at the National Archives and Records Administration (NARA). For information on the availability of this material at NARA, call 202-741-6030, or go to: www.archives.gov/federal_register/code_of_federal_regulations/ibr_locations.html.

These documents, if incorporated in a final rule, would continue to be made available to the public for viewing upon request. Specific information on where these documents could be inspected or purchased would be set forth at 30 CFR 250.198, Documents Incorporated by Reference.

BSEE is proposing to incorporate the requirements found in API Manual of Petroleum Measurement Standards (MPMS), AGA documents, and GPA standards. These documents reflect the latest measurement standards, and their incorporation would provide industry with up-to-date requirements for measurement technology. BSEE is also proposing to incorporate other documents dealing with a variety of safety topics as described below.

Ten standards proposed for incorporation by reference in this rulemaking (newly proposed standards) have not previously been incorporated by reference but have been used in practice by industry for at least a year and some for over a decade. The ten newly proposed standards are minimum safety standards. BSEE relies on standards as part of the bureau's review of development and operations plans required for permit applications. Further, BSEE has inspection programs that monitor compliance with regulations, which includes the incorporated industry standards.

The ten newly proposed standards comprise four integrity management standards, two offshore structure standards, two bolting/metallurgy standards, one crane related standard, and one well workover standard. The four integrity management standards pertain to recordkeeping and maintenance. The two structures standards are modifications of international standards that have been in use worldwide for decades. The two bolting/metallurgy standards are normative references in standards that are already incorporated by reference. The well workover standard is the second edition of a document that has already been in use by industry for approximately the past decade. The update to this standard was requested and reviewed by BSEE.

The National Technology Transfer and Advancement Act (NTTAA) requires that “all Federal agencies . . . use technical standards that are developed or adopted by voluntary consensus standards bodies, using such technical standards as a means to carry out policy objectives or activities determined by the agencies and departments.” 104 Public Law 113, 12(d)(1) (March 7, 1996). The relevant guidance in OMB Circular A-119 instructs federal agencies to use appropriate industry consensus standards when developing regulations because consensus standards are written and updated routinely by industry experts. This standard-specific rulemaking is part of the Department's effort to keep the standards in the regulations up to date. The American National Standards Institute (ANSI) generally requires that industry standards be updated at least every five years by the SDOs. The continual updating of standards results in standards that progressively evolve with the most recent safety criteria and industry norms, thereby evolving with new technology and addressing lessons learned.

Measurement documents were chosen for incorporation into the regulations based on the latest technological advances introduced in these standards and highlighted in the synopsis below. BSEE, in cooperation with independent reviewers from industry and academia, reviews and comments on the contents of these documents. Additionally, since this is a proposed rulemaking, BSEE will consider any public comments that we receive and may rely on them in developing the final rule.

BSEE continually participates in reviews, revisions, and updates of standards with SDOs and determines whether new editions should be incorporated into the Department's regulations. This may be necessary because of changes in technology, environmental concerns, individual incidents, or incident trends. Also, BSEE may request an SDO to develop a new standard based on incident analysis or due to the introduction of new technologies, such as deep-water operations and floating production systems.

BSEE has reviewed the requirements in the standards listed below and proposes to incorporate new standards into and revise some standards that have already been incorporated into the regulations at 30 CFR part 250 to ensure that industry uses the best available and most accurate measurement technologies. BSEE's review indicates that the decision to use these standards will not impose additional costs on the offshore oil and gas industry, because industry currently uses these standards.

Standards Proposed for Incorporation for the First Time or Proposed for Revisions and Summaries.

What requirements must I follow for cranes and other material-handling equipment? (§ 250.108)

BSEE proposes to add a reference to API Standard 2CCU (as incorporated by reference in § 250.198(e)(59)) to § 250.108 new paragraph (g).

Documents Incorporated by Reference. (§ 250.198)

The standards listed below are presented in the order in which they would appear with proposed additions and revisions in § 250.198:

Paragraph (b).

BSEE does not propose any changes to subparagraph (b)(1). BSEE proposes to retain the AGA Reports Numbers 7 and 10 as incorporated in existing § 250.198, add and update the other AGA Reports identified below in paragraph (b), and renumber the resulting subparagraphs as shown below and in the regulatory text:

American Gas Association (AGA) Report No. 8, Part 1, Thermodynamic Properties of Natural Gas and Related Gases Detail and Gross Equations of State, Third Edition, April 2017.

BSEE proposes to revise paragraph (b) of § 250.198 to incorporate by reference for the first time AGA Report No. 8, Part 1, into its regulations (proposed regulatory text: § 250.198(b)(2)). Part 1 presents information for the computation of thermodynamic properties (e.g., compressibility factor, density, and speed of sound) of natural gas and related gases with the DETAIL and GROSS equations of state. Uncertainty estimations for different compositions, pressures, and temperatures are given in Part 1. The computations described in Part 1 are valid for single-phase gaseous states only. BSEE proposes to add a reference to this standard in § 250.1203(b).

AGA Report No. 8, Part 2, Thermodynamic Properties of Natural Gas and Related Gases, GERG—2008 Equation of State, First Edition, April 2017.

BSEE proposes to incorporate by reference for the first time AGA Report No. 8, Part 2 (proposed regulatory text: § 250.198(b)(3)). Part 2 presents information for computation of thermodynamic properties, including compressibility factors, densities, and speeds of sound, of natural gas and related gases, for gaseous states, vapor-liquid equilibrium states, and liquid states, based on the GERG-2008 equation of state. It also improves upon the performance of the AGA 8 DETAIL equation for gas-phase properties, especially at high pressures and low temperatures. The ranges of temperature, pressure, and composition for which the GERG-2008 equation of state applies are much wider than the AGA 8 DETAIL equation. Uncertainty estimations for different compositions, pressures, and temperatures are given. With the availability of vapor-liquid equilibrium and liquid state calculations, Part 2 enables the calculation of dew points, bubble points, and the critical point. BSEE proposes to add a reference to this standard in § 250.1203(b)

AGA Report No. 9—Measurement of Gas by Multipath Ultrasonic Meters, Fourth Edition, 2022.

BSEE proposes to update the already incorporated reference of AGA Report No. 9 from the Second edition to the Fourth edition in its regulations (proposed regulatory text: § 250.198(b)(4)). This standard describes the optimum conditions and best practices for multipath ultrasonic transit-time flow meters used for the measurement of natural gas. Multipath ultrasonic meters have at least two independent pairs of measuring transducers (acoustic paths). Typical applications include measuring the flow of gas through production facilities, transmission pipelines, storage facilities, distribution systems, and large end-use customer meter sets. BSEE currently requires multipath ultrasonic meters used for gas royalty measurement to contain at least three independent pairs of measuring transducers. BSEE incorporated the Second edition of this standard on March 29, 2012 (77 FR 18916). BSEE proposes to update the reference from the Second to the Fourth edition of this standard in § 250.1203(b)(2). The latest edition of AGA Report 9 allows the calibration of ultrasonic meters with laboratory piping in lieu of shipping the entire metering package to the calibration lab.

AGA Report Number 10 will remain as previously incorporated by reference into the regulations, but will be renumbered to § 250.198(b)(5).

AGA Report No. 11—Measurement of Natural Gas by Coriolis Meter, Second Edition, February 2013.

BSEE proposes to incorporate by reference for the first time AGA Report No. 11, Second Edition, into its regulations (proposed regulatory text: § 250.198(b)(6)). AGA Report No. 11 was developed for the specification, calibration, installation, operation, maintenance, and verification of Coriolis flow meters and is limited to the measurement of single-phase natural gas, consisting primarily of hydrocarbon gases mixed with other associated gases usually known as “diluents.” Although Coriolis meters are used to measure a broad range of compressible fluids, non-natural gas applications are beyond the scope of this document. BSEE proposes to add a reference to this standard in § 250.1203(b) as well.

Paragraph (e)—American Petroleum Institute (API), API Recommended Practices, Specifications, Standards, Manual of Petroleum Measurement Standards (MPMS) chapters.

BSEE proposes to reorganize paragraph (e) of § 250.198 to make it more user-friendly and easier to locate the API standards that BSEE incorporates by reference. BSEE proposes to replace the numbered list of the API standards that BSEE incorporates by reference with a table organized by category and standard number. Except as otherwise expressly discussed below, these changes are purely organizational and do not alter the substance of the paragraph.

Separately, BSEE proposes to incorporate by reference additional API Standards in § 250.198 paragraph (e) and update others. BSEE also proposes to remove the references to API Bulletin 2INT-MET, Interim Guidance on Hurricane Conditions in the Gulf of Mexico, May 2007, located in the existing regulations at § 250.198(e)(5), and API RP 86, Recommended Practice for Measurement of Multiphase Flow, September 2005, located in the existing regulations at § 250.198(e)(76). API Bulletin 2INT-MET was an interim document that provided best practices as of 2007 and is replaced in this rule by API RP 2MET—Derivation of Metocean Design and Operating Conditions, Second Edition, January 2021. Similarly, API RP 86 was a document that provided best practices as of 2005 and is superseded by API MPMS, Chapter 20.3—Measurement of Multiphase Flow, First Edition January 2013; reaffirmed October 2018, and supplemented in this rule by AGA Report No. 9—Measurement of Gas by Multipath Ultrasonic Meters, Fourth Edition, 2022. For explanations of the more up to date replacement standards, see the relevant locations in the section-by-section discussions.

API MPMS Chapter 1—Vocabulary, Second Edition, July 1994 is incorporated by reference in the current § 250.198(e)(7) and will remain as previously incorporated by reference into the regulations, but will be renumbered in the proposed reorganized table as § 250.198(e)(1).

API MPMS Chapter 2—Tank Calibration, Section 2A—Measurement and Calibration of Upright Cylindrical Tanks by the Manual Tank Strapping Method, First Edition, February 1995, reaffirmed August 2017 is incorporated by reference in the current § 250.198(e)(8) and will remain as previously incorporated by reference into the regulations, but will be renumbered in the proposed reorganized table as § 250.198(e)(2). BSEE is proposing to add an express reference to this standard in § 250.1202 paragraphs (a) and (l) to clarify the longstanding use of this document already incorporated in the current regulations.

API MPMS Chapter 2—Tank Calibration, Section 2B—Calibration of Upright Cylindrical Tanks Using the Optical Reference Line Method, First Edition, March 1989; reaffirmed April 2019 (including Addendum 1, October 2019) is incorporated by reference in the current § 250.198(e)(9) and will remain as previously incorporated by reference into the regulations, but will be renumbered in the proposed reorganized table as § 250.198(e)(3). BSEE is proposing to add an express reference to this standard in § 250.1202 paragraphs (a) and (l) to clarify the longstanding use of this document already incorporated in the current regulations.

API MPMS Chapter 2.2E, Petroleum and Liquid Petroleum Products—Calibration of Horizontal Cylindrical Tanks, Part 1: Manual Methods, First Edition, April 2004, Reaffirmed August 2014, Errata November 2009.

BSEE proposes to incorporate by reference for the first time API MPMS Chapter 2.2E, Part 1, into its regulations in § 250.198(e)(4). This standard is part of ISO 12917 and specifies manual methods for the calibration of nominally horizontal cylindrical tanks, installed at a fixed location. It is applicable to horizontal tanks up to 4 meters in diameter and 30 meters in length. The methods are applicable to insulated and non-insulated tanks, either when they are aboveground or underground. The methods are applicable to pressurized tanks, and to both knuckle-dish-end and flat-end cylindrical tanks, as well as elliptical and spherical head tanks. Information is also provided to address tanks that are larger than these dimensions. BSEE proposes to add a reference to this standard in § 250.1202(a) as well.

API MPMS Chapter 2.2F, Petroleum and Liquid Petroleum Products—Calibration of Horizontal Cylindrical Tanks, Part 2: Internal Electro-optical Distance-Ranging Method, First Edition, April 2004, reaffirmed September 2014.

BSEE proposes to incorporate by reference for the first time API MPMS Chapter 2.2F, Part 2, into its regulations in § 250.198(e)(5). This standard is part of ISO 12917-2 and specifies a method for the calibration of horizontal cylindrical tanks having diameters greater than 2 meters by means of internal measurements using an electro-optical distance-ranging instrument, and for the subsequent compilation of tank-capacity tables. This method is known as the internal electro-optical distance-ranging method. This part of ISO 12917-2 is also applicable to tanks inclined by up to 10 percent from the horizontal provided a correction is applied for the measured tilt. BSEE proposes to add a reference to this standard in § 250.1202 as well.

API MPMS Chapter 3.1A, Standard Practice for the Manual Gauging of Petroleum and Petroleum Products, Third Edition, August 2013, Errata 1, January 2021.

BSEE proposes to update the incorporation by reference of this standard in the current § 250.198(e)(10) from the Second to the Third Edition, and to relocate it to § 250.198(e)(6). The title also changed from API MPMS Chapter 3, Section 1A to API MPMS Chapter 3.1A. The Third Edition added sections on gauging procedures, reading and recording gauges, operational precautions, and system integrity. This document describes the following procedures and influences for manual gauging:

(1) The procedures for manually gauging the liquid level of petroleum and petroleum products in non-pressure fixed-roof, floating-roof tanks and marine tank vessels;

(2) Procedures for manually gauging the level of free water that may be found with the petroleum or petroleum products;

(3) Methods used to verify the length of gauge tapes under field conditions and the influence of bob weights and temperature on the gauge tape length; and

(4) Influences that may affect the position of gauging reference point (either the datum plate or the reference gauge point).

Throughout this standards document, the term petroleum is used to denote petroleum, petroleum products, or the liquids normally associated with the petroleum industry. This document is applicable for gauging quantities of liquids having Reid vapor pressures less than 103 kPa (15 psia). The Department incorporated the Second edition into its regulations on March 15, 2007 (72 FR 12088). BSEE proposes to update the incorporation of the Third edition of this standard into § 250.1202(a).

API MPMS Chapter 3—Tank Gauging, Section 1B—Standard Practice for Level Measurement of Liquid Hydrocarbons in Stationary Tanks by Automatic Tank Gauging, Second Edition, June 2001; reaffirmed February 2016 is incorporated by reference in the current § 250.198(e)(11) and will remain as previously incorporated by reference into the regulations, but will be renumbered in the proposed reorganized table as § 250.198(e)(7). BSEE is proposing to add an express reference to this standard in § 250.1202 paragraphs (a) and (l) to clarify the longstanding use of this document already incorporated in the current regulations.

API MPMS Chapter 4—Proving Systems, Section 1—Introduction, Third Edition, February 2005; reaffirmed June 2014 is incorporated by reference in the current § 250.198(e)(12) and will remain as previously incorporated by reference into the regulations, but will be renumbered in the proposed reorganized table as § 250.198(e)(8). BSEE is proposing to add an express reference to this standard in § 250.1202 paragraphs (a) and (d) to clarify the longstanding use of this document already incorporated in the current regulations.

API MPMS Chapter 4—Proving Systems, Section 2—Displacement Provers, Third Edition, September 2003, Addendum February 2015, Reaffirmed December 2022.

BSEE proposes to correct the reference to API MPMS Chapter 4, Section 2, in the current regulations at § 250.198(e)(13), to reflect the 2022 reaffirmation and the 2015 Addendum, and to relocate it to § 250.198(e)(9). This chapter outlines the essential elements of provers that do, and do not, accumulate a minimum of 10,000 whole meter pulses between detector switches, and provides design and installation details for the types of displacement provers that are currently in use. The provers discussed in this chapter are designed for proving measurement devices under dynamic operating conditions with single-phase liquid hydrocarbons. These provers consist of a pipe section through which a displacer travels and activates detection devices before stopping at the end of the run as the stream is diverted or bypassed. The Department incorporated the Third edition of this standard into its regulations on March 15, 2007 (72 FR 12088). The Department here proposes to update that incorporated edition to acknowledge the 2022 reaffirmation and 2015 Addendum. BSEE proposes to update the reference of this standard in § 250.1202 as well.

API MPMS Chapter 4—Proving Systems, Section 4—Tank Provers, Second Edition, May 1998, reaffirmed December 2020 is incorporated by reference in the current § 250.198(e)(14) and will remain as previously incorporated by reference into the regulations, but will be renumbered in the proposed reorganized table as § 250.198(e)(10). BSEE is proposing to add an express reference to this standard in § 250.1202 paragraphs (a) and (f) to clarify the longstanding use of this document already incorporated in the current regulations.

API MPMS Chapter 4.5, Master Meter Provers, Fourth Edition, June 2016.

BSEE proposes to update the incorporation by reference of API MPMS Chapter 4.5, currently located at § 250.198(e)(15), from the Second to the Fourth edition in its regulations, and to relocate it to § 250.198(e)(11). The title of this standard has changed from API MPMS Chapter 4, Section 5 to API MPMS Chapter 4.5. The Fourth Edition added sections on Master Meter Factors for combined uncertainty, random uncertainty, and related examples. This standard covers the use of displacement, turbine, Coriolis, and ultrasonic meters as master meters. The requirements in this standard are intended for single-phase liquid hydrocarbons. Meter proving requirements for other fluids should be appropriate for the overall custody transfer accuracy and should be agreeable to the parties involved. This document does not cover master meters to be used for the calibration of provers. For information concerning master meter calibration of provers, see API MPMS Chapter 4.9.3. The Department incorporated the Second edition of this standard into the regulations on March 15, 2007 [72 FR 12088]. BSEE proposes to update the reference of this standard into § 250.1202 as well.

API MPMS Chapter 4—Proving Systems, Section 6—Pulse Interpolation, Second Edition, May 1999; Errata April 2007; reaffirmed October 2013 is incorporated by reference in the current § 250.198(e)(16) and will remain as previously incorporated by reference into the regulations, but will be renumbered in the proposed reorganized table as § 250.198(e)(12). BSEE is proposing to add an express reference to this standard in § 250.1202 paragraphs (a) and (h) to clarify the longstanding use of this document already incorporated in the current regulations.

API MPMS Chapter 4—Proving Systems, Section 7—Field Standard Test Measures, Third Edition, April 2009, reaffirmed June 2014.

BSEE proposes to update the incorporation by reference of API MPMS Chapter 4, Section 7, currently located at § 250.198(e)(17), from the Second to the Third Edition in its regulations, and to relocate it to § 250.198(e)(13). The Third Edition includes information on calibration frequency of test measurements and an example of a NIST report of calibration. This standard describes the essential elements of field standard test measures by providing descriptions, construction requirements, as well as inspection, handling, and calibration methods. Bottom-neck scale test measures and prover tanks are not addressed in this document. The scope of this standard is limited to the certification of “delivered volumes” of test measures. The Department incorporated the Second edition of this standard into its regulations on March 15, 2007 (72 FR 12088). BSEE proposes to update the reference of this standard in § 250.1202(a) as well.

API MPMS Chapter 4.8—Operation of Proving Systems, Third Edition, July 2021.

BSEE proposes to update the incorporation by reference of API MPMS Chapter 4.8, currently located at § 250.198(e)(18), from the First to the Third Edition in its regulations, and to relocate it to § 250.198(e)(14). The title of this standard also changed from API MPMS Chapter 4, Section 8 to API MPMS Chapter 4.8. The Third Edition added information on frequency of meter proving, proving locations, types of provers, calibration frequency, and proving concerns. This standard provides information for operating meter provers on single-phase liquid hydrocarbons. It is a reference manual for operating proving systems. The requirements of this chapter are based upon customary practices for single-phase liquids. The standard is purposely written for hydrocarbons, but much of the information contained may be applicable to other liquids. Specific requirements for other liquids should be agreeable to parties involved. BSEE incorporated the First edition of this standard into its regulations on March 29, 2012 (77 FR 18916). BSEE proposes to update the reference of this standard in § 250.1202.

API MPMS Chapter 4, Proving Systems, Section 9—Methods of Calibration for Displacement and Volumetric Tank Provers, Part 2—Determination of the Volume of Displacement and Tank Provers by the Water-draw Method of Calibration, First Edition, December 2005, reaffirmed July 2015.

BSEE proposes to incorporate by reference for the first time API MPMS Chapter 4, Proving Systems, Section 9, Part 2, into its regulations in § 250.198(e)(15). This standard covers all the procedures required to determine the field data necessary to calculate a base prover volume, of either displacement provers or volumetric tank provers, by the water-draw method of calibration. The document will enable the user to perform all the activities necessary to prepare the prover, conduct calibration runs, and record all the required data necessary to calculate the base volumes of displacement and tank provers. Evaluation of the results and troubleshooting of many calibration problems are also discussed. Detailed calculation procedures are not included in this standard. For complete details regarding the calculations applicable to this standard, refer to the latest edition of the API Manual of Petroleum Measurement Standards, Chapter 12, Section 2, Part 4, entitled, “Calculation of Prover Volumes by the Water-draw Method.” BSEE proposes to add a reference to this standard in § 250.1202.

API MPMS, Chapter 5—Metering, Section 1—General Considerations for Measurement by Meters, Fourth Edition, September 2005, Errata 1 June 2008, Errata 2 June 2011, reaffirmed December 2022.

BSEE proposes to update its incorporation of API MPMS Chapter 5, Metering, Section 1, currently located at § 250.198(e)(19), to include Errata 1, Errata 2, and the December 2022, and to relocate it to § 250.198(e)(16). The errata corrected printing errors of references at the end of a paragraph, e.g., “Paragraph 5.1.9.4.2, the reference at the end of the paragraph should read: (see 5.1.9.5).” API MPMS Chapter 5 is a guide for the proper specification, installation, and operation of meter runs designed to dynamically measure liquid hydrocarbons so that acceptable accuracy, service life, safety, reliability, and quality control can be achieved. API MPMS Chapter 5 also includes information that will assist in troubleshooting and improving the performance of meters. The Department updated its incorporation of the Fourth edition of this standard into the regulations on March 15, 2007 (72 FR 12088). BSEE proposes to update the reference of this standard in § 250.1202(a).

API MPMS Chapter 5—Metering, Section 2—Measurement of Liquid Hydrocarbons by Displacement Meters, Third Edition, September 2005; reaffirmed December 2020 is incorporated by reference in the current § 250.198(e)(20) and will remain as previously incorporated by reference into the regulations, but will be renumbered in the proposed reorganized table as § 250.198(e)(17). BSEE is proposing to add an express reference to this standard in § 250.1202(a) to clarify the longstanding use of this document already incorporated in the current regulations.

API MPMS Chapter 5—Metering, Section 3—Measurement of Liquid Hydrocarbons by Turbine Meters, Fifth Edition, September 2005; reaffirmed August 2014 is incorporated by reference in the current § 250.198(e)(21) and will remain as previously incorporated by reference into the regulations, but will be renumbered in the proposed reorganized table as § 250.198(e)(18). BSEE is proposing to add an express reference to this standard in § 250.1202(a) to clarify the longstanding use of this document already incorporated in the current regulations.

API MPMS Chapter 5—Metering, Section 4—Accessory Equipment for Liquid Meters, Fourth Edition, September 2005; reaffirmed August 2015 is incorporated by reference in the current § 250.198(e)(22) and will remain as previously incorporated by reference into the regulations, but will be renumbered in the proposed reorganized table as § 250.198(e)(19). BSEE is proposing to add an express reference to this standard in § 250.1202(a) to clarify the longstanding use of this document already incorporated in the current regulations.

API MPMS Chapter 5—Metering, Section 5—Fidelity and Security of Flow Measurement Pulsed-Data Transmission Systems, Second Edition, August 2005; reaffirmed August 2015 is incorporated by reference in the current § 250.198(e)(23) and will remain as previously incorporated by reference into the regulations, but will be renumbered in the proposed reorganized table as § 250.198(e)(20). BSEE is proposing to add an express reference to this standard in § 250.1202(a) to clarify the longstanding use of this document already incorporated in the current regulations.

API MPMS Chapter 5—Metering, Section 6—Measurement of Liquid Hydrocarbons by Coriolis Meters; First Edition, October 2002; reaffirmed November 2013 is incorporated by reference in the current § 250.198(e)(24) and will remain as previously incorporated by reference into the regulations, but will be renumbered in the proposed reorganized table as § 250.198(e)(21).

API MPMS Chapter 5.8—Measurement of Liquid Hydrocarbons by Ultrasonic Flow Meters, Second Edition, November 2011, Errata February 2014, reaffirmed May 2017.

BSEE proposes to update the incorporation by reference of API MPMS Chapter 5.8, currently located at § 250.198(e)(25), from the First edition to the Second edition, including Errata and Reaffirmation, in its regulations, and to relocate it to § 250.198(e)(22). The title of this standard changed from API MPMS Chapter 5, Section 8 to API MPMS Chapter 5.8. The Second Edition updated the normative references and the sections on meter performance, accuracy, and repeatability. This document defines the application criteria for Ultrasonic Flow Meters (UFMs) and addresses the appropriate considerations regarding the liquids to be measured. Also, this document addresses the installation, operation, and maintenance of UFMs in liquid hydrocarbon service. This document pertains only to spool type, two or more path ultrasonic flow meters with permanently affixed transducer assemblies. While this document was specifically written for custody transfer measurement, other acceptable applications may include allocation measurement, check meter measurement, and leak detection measurement. BSEE updated its incorporation of the First edition of this standard into the regulations on March 29, 2012 (77 FR 18916). BSEE proposes to update the reference of this standard in § 250.1202(a).

API MPMS Chapter 6.1, Lease Automatic Custody Transfer (LACT) Systems, Second Edition, May 1991, Addendum 1 August 2020.

BSEE proposes to update the incorporation by reference of API MPMS Chapter 6.1 in its regulations, currently located at § 250.198(e)(26), to include the 2020 Addendum in § 250.198(e)(23). The title of this standard changed from API MPMS Chapter 6, Section 1 to API MPMS Chapter 6.1. The Addendum added information on determining normal operating conditions. This publication describes the metering function of a LACT unit and is intended to complement API Specification 11N, Specification for Lease Automatic Custody Transfer (LACT) Equipment. LACT equipment includes a meter (either displacement or turbine), a proving system (either fixed or portable), devices for determining temperature and pressure and for sampling the liquid, and a means of determining non-merchantable oil. Many of the aspects of the metering function of a LACT unit are considered at length in other parts of this manual and are referenced in paragraph 6.1.4. API reaffirmed the standard without substantive change in May 2012, and BSEE updated its incorporation of the Second edition of this standard in the regulations on December 20, 2020 (85 FR 84230). BSEE proposes to update the reference of this standard in § 250.1202(a).

API MPMS Chapter 6—Metering Assemblies, Section 6—Pipeline Metering Systems, Second Edition, May 1991; reaffirmed December 2017 is incorporated by reference in the current § 250.198(e)(27) and will remain as previously incorporated by reference into the regulations, but will be renumbered in the proposed reorganized table as § 250.198(e)(24). BSEE is proposing to add an express reference to this standard in § 250.1202(a) to clarify the longstanding use of this document already incorporated in the current regulations.

API MPMS Chapter 6—Metering Assemblies, Section 7—Metering Viscous Hydrocarbons, Second Edition, May 1991; reaffirmed March 2018 is incorporated by reference in the current § 250.198(e)(28) and will remain as previously incorporated by reference into the regulations, but will be renumbered in the proposed reorganized table as § 250.198(e)(25). BSEE is proposing to add an express reference to this standard in § 250.1202(a) to clarify the longstanding use of this document already incorporated in the current regulations.

API MPMS, Chapter 7.1—Temperature Determination-Liquid-in-Glass Thermometers, Second Edition, August 2017.

BSEE proposes to incorporate by reference for the first time API MPMS Chapter 7.1 into its regulations in § 250.198(e)(26). API MPMS Chapter 7, Temperature Determination, First Edition, June 2001, which is currently incorporated by reference at § 250.198(e)(29), was withdrawn by API as outdated and superseded by API MPMS Chapters 7.1, 7.2, 7.3, and 7.4. This rule deletes outdated API MPMS Chapter 7 and adds API MPMS Chapters 7.1 and 7.3. API MPMS Chapter 7.1 is specific to liquid-in-glass thermometers. API MPMS Chapter 7.1 describes the methods, equipment, and procedures for manually determining the temperature of liquid petroleum and petroleum products under both static and dynamic conditions with liquid-in-glass thermometers. Further, Chapter 7.1 discusses temperature measurement requirements in general for custody transfer, inventory control, and marine measurements. The actual method and equipment selected for temperature determination are left to the agreement of the parties involved. The manual method covers non-pressurized tanks and non-pressurized marine vessels and gas-blanketed tanks and gas-blanketed marine vessels. It does not cover hydrocarbons under pressures in excess of 21 kPa (3 psi gauge) or cryogenic temperature measurement, unless equipped with a thermowell. BSEE proposes to add a reference to this standard in § 250.1202(a).

API MPMS, Chapter 7.3—Temperature Determination—Temperature Determination—Fixed Automatic Tank Temperature Systems, Second Edition, October 2011, reaffirmed September 2021.

BSEE proposes to incorporate by reference for the first time API MPMS Chapter 7.3, Second Edition as reaffirmed, into its regulations in § 250.198(e)(27). API MPMS Chapter 7, Temperature Determination, First Edition, June 2001, which is currently incorporated by reference at § 250.198(e)(29), was withdrawn by API as outdated and superseded by API MPMS Chapters 7.1, 7.2, 7.3, and 7.4. This rule deletes outdated API MPMS Chapter 7 and adds API MPMS Chapters 7.1 and 7.3. API MPMS Chapter 7.3 describes the methods, equipment, and procedures for determining the temperature of petroleum and petroleum products under static conditions by the use of an automatic method. Automatic temperature measurement is discussed for custody transfer and inventory control for both onshore and marine measurement applications. Temperatures of hydrocarbon liquids under static conditions can be determined by measuring the temperature of the liquid at specific locations. Examples of where static temperature determination is required include storage tanks, ships, and barges. The application of this standard is restricted to automatic methods for the determination of temperature using fixed automatic tank thermometer (ATT) systems for hydrocarbons having a Reid Vapor Pressure at or below 101.325 kPa (14.696 psia). BSEE proposes to add a reference to this standard in § 250.1202(a).

API MPMS Chapter 8.1—Standard Practice for Manual Sampling of Petroleum and Petroleum Products, Sixth Edition, September 2022.

BSEE proposes to update the incorporation of API MPMS Chapter 8.1, currently located at § 250.198(e)(30), from the Third edition to the Sixth Edition in its regulations, and to relocate it to § 250.198(e)(28). The title of this section changed from API MPMS Chapter 8, Section 1 to API MPMS Chapter 8.1. The Sixth Edition added sections on health and safety precautions, sampling requirements, considerations, and procedures, as well as instructions for special products. This practice covers procedures and equipment for manually obtaining samples of liquid petroleum and petroleum products, crude oils, and intermediate products from the sample point into the primary container. Procedures are also included for the sampling of free water and other heavy components associated with petroleum and petroleum products. This practice also addresses the sampling of semi-liquid or solid-state petroleum products. This practice provides additional specific information about sample container selection, preparation, and sample handling. This practice does not cover sampling of electrical insulating oils and hydraulic fluids. If sampling is for the precise determination of volatility, use Practice D5842 (API MPMS Chapter 8.4) in conjunction with this practice. For sample mixing and handling, refer to Practice D5854 (API MPMS Chapter 8.3). The Department updated its incorporation of the Third edition of this standard into the regulations on March 15, 2007 (72 FR 12088). BSEE proposes to update the reference of this standard in § 250.1202(a).

API MPMS, Chapter 8.2—Standard Practice for Automatic Sampling of Liquid Petroleum and Petroleum Products, Sixth Edition, September 2022.

BSEE proposes to update the incorporation by reference of API MPMS Chapter 8.2, currently located at § 250.198(e)(31), from the 1995 Second edition to the Sixth edition, September 2022 in its regulations, and to relocate it to § 250.198(e)(29). The title of this standard changed from API MPMS Chapter 8, Section 2 to API MPMS Chapter 8.2. The Sixth Edition added representative sampling components and performance criteria. This document describes general procedures and equipment for automatically obtaining samples of liquid petroleum and petroleum products, crude oils, and intermediate products from the sample point into the primary container. This practice also provides additional specific information about sample container selection, preparation, and sample handling. If sampling is for the precise determination of volatility, use Practice D5842 (API MPMS Chapter 8.4) in conjunction with this practice. For sample mixing and handling, refer to Practice D5854 (API MPMS Chapter 8.3). This practice does not cover sampling of electrical insulating oils and hydraulic fluids. Combining values from the two systems may result in non-conformance with the standard. This standard was developed in accordance with internationally recognized principles on standardization established in the Decision on Principles for the Development of International Standards, Guides and Recommendations issued by the World Trade Organization Technical Barriers to Trade Committee. The Department updated its incorporation of the Second edition of this standard into the regulations on March 15, 2007 (72 FR 12088). BSEE proposes to update the reference of this standard in § 250.1202(a).

API MPMS Chapter 8.3—Standard Practice for Mixing and Handling of Liquid Samples of Petroleum and Petroleum Products, Second Edition, September 2019.

BSEE proposes to incorporate by reference for the first time API MPMS Chapter 8.3, into its regulations in § 250.198(e)(30). The Second Edition added text on labeling, transport, mixing, sample integrity, storage, preservation, and audit. This practice covers handling, mixing, and conditioning procedures that are required to ensure that a representative sample of the liquid petroleum or petroleum product is delivered from the primary sample container or other container or both into the analytical apparatus or into intermediate containers. Appendix X1 in this document details the background information on the development of Table 1 used in performance testing. Appendix X2 provides guidance in the acceptance testing for water in crude oil. Appendix X3 provides a guide for materials of sample containers. Appendix X4 provides a summary of recommended mixing procedures. Appendix X5 provides a flow chart for sample container/mixing system acceptance test. BSEE proposes to add a reference to this standard in § 250.1202(a).

API MPMS Chapter 9.1—Standard Test Method for Density, Relative Density, or API Gravity of Crude Petroleum and Liquid Petroleum Products by Hydrometer Method, Third Edition, December 2012, reaffirmed May 2017.

BSEE proposes to update the incorporation by reference of API MPMS Chapter 9.1, currently located at § 250.198(e)(32), from the 2002 Second edition to the December 2012 Third edition, Reaffirmed in May 2017, in its regulations, and to relocate it to § 250.198(e)(31). The title of this standard changed from API MPMS Chapter 9, Section 1 to API MPMS Chapter 9.1. The Third Edition included information on procedures, reporting, and precision and bias. This test method covers the laboratory determination of the density, relative density, or API gravity of crude petroleum, petroleum products, or mixtures of petroleum and nonpetroleum products normally handled as liquids and having a Reid vapor pressure of 101.325 kPa (14.696 psi) or less. The relevant test method involves using a glass hydrometer in conjunction with a series of calculations. Values are determined at existing temperatures and corrected to 15 °C or 60 °F by means of a series of calculations and international standard tables. The Department updated its incorporation of the Second edition of this standard into the regulations on March 15, 2007 (72 FR 12088). BSEE proposes to update the reference of this standard in § 250.1202(a).

API MPMS Chapter 9.2—Standard Test Method for Density or Relative Density of Light Hydrocarbons by Pressure Hydrometer, Fourth Edition, November 2022.

BSEE proposes to update the incorporation by reference of API MPMS Chapter 9.2, currently located at § 250.198(e)(33), from the 2003 Second edition to the November 2022 Fourth edition in its regulations, and to relocate it to § 250.198(e)(32). The title of this standard changed from API MPMS Chapter 9, Section 2 to API MPMS Chapter 9.2. The Fourth Edition included distinguishing mandatory information and amended the referenced documents section. This test method covers the determination of the density or relative density of light hydrocarbons including liquefied petroleum gases (LPG) having Reid vapor pressures exceeding 101.325 kPa (14.696 psi). The prescribed apparatus should not be used for materials having vapor pressures higher than 1.4 MPa (200 psi) at the test temperature. This pressure limit is dictated by the type of equipment. Higher pressures can apply to other equipment designs. The initial pressure hydrometer readings obtained are uncorrected hydrometer readings and not density measurements. Readings are measured on a hydrometer at either the reference temperature or at another convenient temperature, and readings are corrected for the meniscus effect, the thermal glass expansion effect, alternate calibration temperature effects, and to the reference temperature by means of calculations and Adjunct to D1250 Guide for Petroleum Measurement Tables (API MPMS Chapter 11.1) or API MPMS Chapter 11.2.4 (GPA TP-27), as applicable. The Department updated its incorporation of the Second edition of this standard into the regulations on March 15, 2007 (72 FR 12088). BSEE proposes to update the reference of this standard in § 250.1202(a).

API MPMS Chapter 9.4—Continuous Density Measurement Under Dynamic (Flowing) Conditions, First Edition, January 2018.

BSEE proposes to incorporate by reference for the first time API MPMS Chapter 9.4, into its regulations in § 250.198(e)(33). This document covers the continuous on-line determination and application of flowing liquid densities for custody transfer. This document covers liquid and dense phase fluids, including natural gas liquids, refined products, chemicals, crude oil, and other liquid products commonly encountered in the petroleum industry. This document does not apply to the density measurement of natural gas, liquified natural gas, multiphase mixtures, semi-solid liquids such as asphalt, and solids such as coke and slurries. This standard also provides criteria and procedures for designing, installing, operating, and proving continuous on-line density measurement systems for custody transfer. This standard also discusses the different levels and requirements of accuracy for various applications. BSEE proposes to add a reference to this standard in § 250.1202(a).

API MPMS Chapter 10—Sediment and Water, Section 1—Standard Test Method for Sediment in Crude Oils and Fuel Oils by the Extraction Method, Third Edition, November 2007; reaffirmed October 2012 is incorporated by reference in the current § 250.198(e)(34) and will remain in the proposed reorganized table as previously incorporated by reference in § 250.198(e)(34). BSEE is proposing to add an express reference to this standard in § 250.1202(a) to clarify the longstanding use of this document already incorporated in the current regulations.

API MPMS Chapter 10.2—Standard Test Method for Water in Crude Oil by Distillation, Fifth Edition, December 2022.

BSEE proposes to update the incorporation by reference of API MPMS Chapter 10.2, currently located at § 250.198(e)(35), from the 2007 Second edition to the December 2022 Fifth edition in its regulations in § 250.198(e)(35). The title of this standard changed from API MPMS Chapter 10, Section 2 to API MPMS Chapter 10.2. The Fifth Edition accumulated references to ASTM documents and API documents associated terms and terminology along with related text. This test method covers the determination of water in crude oil by distillation. The values stated in the International System of Units (SI units) are to be regarded as standard. No other units of measurement are included in this standard. The Department updated its incorporation of the Second edition of this standard into the regulations on April 28, 2010 (75 FR 22219). BSEE proposes to update the reference of this standard into § 250.1202(a).

API MPMS Chapter 10.3—Standard Test Method for Water and Sediment in Crude Oil by the Centrifuge Method (Laboratory Procedure), Fifth Edition, December 2022.

BSEE proposes to update the incorporation by reference of API MPMS Chapter 10.3, currently located at § 250.198(e)(36), from the 2008 Third edition to the December 2022 Fifth edition in § 250.198(e)(36). The title of this standard changed from API MPMS Chapter 10, Section 3 to API MPMS Chapter 10.3. The Fifth Edition provides additional references to ASTM documents and API documents, mandatory and nonmandatory documents, test methods and associated terms and terminology, and additional information on constraints. This test method describes the laboratory determination of water and sediment in crude oils by means of the centrifuge procedure. This centrifuge method for determining water and sediment in crude oils is not entirely satisfactory. The amount of water detected is almost always lower than the actual water content. When a highly accurate value is required, the revised procedures for water by distillation, Test Method D4006 (API MPMS Chapter 10.2) (Note 1), and sediment by extraction, Test Method D473 (API MPMS Chapter 10.1), shall be used. Test Method D4006 (API MPMS Chapter 10.2) has been determined to be the preferred and most accurate method for the determination of water. The values stated in SI units are to be regarded as standard. The Department updated its incorporation of the Third edition of this standard into the regulations on April 28, 2010 (75 FR 22219). BSEE proposes to update the reference of this standard in § 250.1202(a).

API MPMS Chapter 10.4—Determination of Water and/or Sediment in Crude Oil by the Centrifuge Method (Field Procedure), Fifth Edition, August 2020.

BSEE proposes to update the incorporation by reference of API MPMS Chapter 10.4, currently located at § 250.198(e)(37), from the 1999 Third edition to the 2020 Fifth edition in § 250.198(e)(37). The title of this standard changed from API MPMS Chapter 10, Section 4 to API MPMS Chapter 10.4. The Fifth Edition amended text concerning procedures, calculations, and reporting related to centrifuge tube spin calculations, test procedures, and test reading requirements. This section describes the field centrifuge method for determining both sediment and water or sediment only in crude oil. This method may not always produce the most accurate results, but it is considered the most practical method for field determination of sediment and water. This method may also be used for field determination of sediment. When a higher degree of accuracy is required, the laboratory procedure described in API MPMS Ch. 10.3, Standard Test Method for Water and Sediment in Crude Oil by the Centrifuge Method (Laboratory Procedure) (ASTM D4007); API MPMS Chapter 10.2, Standard Test Method for Water in Crude Oil by Distillation (ASTM D4006); or API MPMS Chapter 10.9, Standard Test Method for Water in Crude Oils by Coulometric Karl Fischer Titration (ASTM D4928); and the procedure described in API MPMS Chapter 10.1, Standard Test Method for Sediment in Crude Oils and Fuel Oils by the Extraction Method (ASTM D473) should be used. The Department updated its incorporation of the Third edition of this standard into the regulations on March 15, 2007 (72 FR 12088). BSEE proposes to update the reference of this standard in § 250.1202(a).

API MPMS Chapter 10.9—Standard Test Method for Water in Crude Oils by Coulometric Karl Fischer Titration, Third Edition, May 2013, reaffirmed June 2018.

BSEE proposes to update the incorporation by reference of API MPMS Chapter 10.9 at § 250.198(e)(38) from the 2002 Second edition to the 2013 Third edition, reaffirmed in 2018. The title of this standard changed from API MPMS Chapter 10, Section 9 to API MPMS Chapter 10.9. The Third Edition was updated with modern terminology to bring content into compliance with existing practices. This test method covers the determination of water in the range from 0.02 to 5.00 mass or volume % in crude oils. Mercaptan (RSH) and sulfide (S− or H2S) as sulfur are known to interfere with this test method, but at levels of less than 500 μg/g [ppm(m)], the interference from these compounds is insignificant. This test method can be used to determine water in the 0.005 to 0.02 mass % range, but the effects of the mercaptan and sulfide interference at these levels has not been determined. For the range 0.005 to 0.02 mass %, there is no precision or bias statement. This test method is intended for use with standard commercially available coulometric Karl Fischer reagent. The values stated in SI units are to be regarded as standard. No other units of measurement are included in this standard. The Department updated its incorporation of the Second edition of this standard into the regulations on March 15, 2007 (72 FR 12088). BSEE proposes to update the reference of this standard in § 250.1202(a).

API MPMS Chapter 11—Physical Properties Data, Section 1—Temperature and Pressure Volume Correction Factors for Generalized Crude Oils, Refined Products, and Lubricating Oils, 2004 Edition, May 2004, Addendum 1 September 2007, Addendum 2 May 2019.

BSEE proposes to update the incorporation by reference of API MPMS Chapter 11, Section 1, currently located at § 250.198(e)(41), in its regulations, and to relocate it to § 250.198(e)(39). The 2007 Addendum replaced the term “Correction for Temperature and Pressure of a Liquid” for the term “Volume Correction Factor.” Where there is no pressure correction, then the Correction for Temperature (CTL) will replace the Volume Correction Factor. The 2019 Addendum added 33 pages concerning compressibility, volume corrections, new terms, gauge pressure, and procedures. This standard provides the algorithm and implementation procedure for the correction of temperature and pressure effects on density and volume of liquid hydrocarbons which fall within the categories of crude oil, refined products, or lubricating oils. Natural gas liquids and liquid petroleum gases are excluded from consideration in this standard. The combination of density and volume correction factors for both temperature and pressure are collectively referred to in this standard as a Correction for Temperature and Pressure of a Liquid. The temperature portion of this correction is termed the Correction for the effect of Temperature on Liquid, also historically known as Volume Correction Factor. The pressure portion is termed the Correction for the effect of Pressure on Liquid. BSEE updated its incorporation of this standard into the regulations on March 29, 2012 (77 FR 18916). BSEE proposes to update the reference of this standard in § 250.1202(l).

API MPMS Chapter 11.1—Volume Correction Factors, Volume 1, Table 5A—Generalized Crude Oils and JP-4 Correction of Observed API Gravity to API Gravity at 60 °F, and Table 6A—Generalized Crude Oils and JP-4 Correction of Volume to 60 °F Against API Gravity at 60 °F, API Standard 2540, First Edition, August 1980; reaffirmed March 1997 is incorporated by reference in the current § 250.198(e)(39) and will remain as previously incorporated by reference into the regulations, but will be renumbered in the proposed reorganized table as § 250.198(e)(40).

API MPMS Chapter 11.2.2—Compressibility Factors for Hydrocarbons: 0.350-0.637 Relative Density (60 °F/60 °F) and −50 °F to 140 °F Metering Temperature, Second Edition, October 1986; reaffirmed: September 2017 is incorporated by reference in the current § 250.198(e)(40) and will remain as previously incorporated by reference into the regulations, but will be renumbered in the proposed reorganized table as § 250.198(e)(41). BSEE is proposing to add an express reference to this standard in § 250.1202(a) to clarify the longstanding use of this document already incorporated in the current regulations.

API MPMS Chapter 11—Physical Properties Data, Addendum to Section 2, Part 2—Compressibility Factors for Hydrocarbons, Correlation of Vapor Pressure for Commercial Natural Gas Liquids, First Edition, December 1994; reaffirmed, December 2002 is incorporated by reference in the current § 250.198(e)(42) and will remain as previously incorporated by reference in the proposed reorganized table in § 250.198(e)(42). BSEE is proposing to add an express reference to this standard in § 250.1202(a) to clarify the longstanding use of this document already incorporated in the current regulations.

API MPMS Chapter 12.2, Calculation of Petroleum Quantities Using Dynamic Measurement Methods and Volumetric Correction Factors, Second Edition, July 2021.

BSEE proposes to incorporate by reference API MPMS Chapter 12.2, Second Edition, July 2021 into its regulations in § 250.198(e)(43). API MPMS Chapter 12.2 supersedes three documents that have been withdrawn by API as outdated. Namely, API has withdrawn API MPMS Chapter 12.2.1, Second Edition 1995 (currently located at § 250.198(e)(43)), API MPMS Chapter 12.2.2, Third Edition 2003 (currently located at § 250.198(e)(44)), and API MPMS Chapter 12.2.3, First Edition 1998 (currently located at § 250.198(e)(45)), and BSEE therefore proposes to remove those standards from the regulations in this rule. API MPMS Chapter 12.2 (2021) provides standardized calculation methods for the quantification of liquids, regardless of the point of origin or destination or the units of measure required by governmental customs or statute. The criteria contained in this document allow different entities using various computer languages on different computer hardware (or manual calculations) to arrive at output results within a defined tolerance within this document, using the same input data. The document specifies the equations for computing correction factors, rules for rounding, calculation sequence, and discrimination levels to be employed in the calculations. The intent of this document is to serve as a rigorous standard. This document also covers multiple calculations as required by dynamic, online, integrated, continuous flow measurement. BSEE proposes to add a reference to this standard in § 250.1202(a).

API MPMS, Chapter 12—Calculation of Petroleum Quantities, Section 2—Calculation of Petroleum Quantities Using Dynamic Measurement Methods and Volumetric Correction Factors, Part 1—Introduction, Second Edition, May 1995; reaffirmed March 2014 is incorporated by reference in the current § 250.198(e)(43), and because it has been withdrawn as outdated by API, BSEE is removing it from the regulations. As discussed above, API MPMS Chapter 12.2 (2021) replaces API MPMS Chapter 12.2.1 (1995).

API MPMS, Chapter 12—Calculation of Petroleum Quantities, Section 2—Calculation of Petroleum Quantities Using Dynamic Measurement Methods and Volumetric Correction Factors, Part 2—Measurement Tickets, Third Edition, June 2003; reaffirmed February 2016 is incorporated by reference in the current § 250.198(e)(44), and because it has been withdrawn as outdated by API, BSEE is removing it from the regulations. As discussed above, API MPMS Chapter 12.2 (2021) replaces API MPMS Chapter 12.2.2 (2003).

API MPMS Chapter 12—Calculation of Petroleum Quantities, Section 2—Calculation of Petroleum Quantities Using Dynamic Measurement Methods and Volumetric Correction Factors, Part 3—Proving Reports; First Edition, October 1998, reaffirmed March 2014 is incorporated by reference in the current § 250.198(e)(45), and because it has been withdrawn as outdated by API, BSEE is removing it from the regulations. As discussed above, API MPMS Chapter 12.2 (2021) replaces API MPMS Chapter 12.2.3 (1998).

API MPMS Chapter 12—Calculation of Petroleum Quantities, Section 2—Calculation of Petroleum Quantities Using Dynamic Measurement Methods and Volumetric Correction Factors, Part 4—Calculation of Base Prover Volumes by the Waterdraw Method, First Edition, December 1997; reaffirmed January 2022 is incorporated by reference in the current § 250.198(e)(46) and will remain as previously incorporated by reference into the regulations, but will be renumbered in the proposed reorganized table as § 250.198(e)(44).

API MPMS Chapter 14.1, Collecting and Handling of Natural Gas Samples for Analysis by Gas Chromatography, Eighth Edition, September 2022.

BSEE proposes to incorporate by reference API MPMS Chapter 14.1, Eighth edition (September 2022) into its regulations in § 250.198(e)(45). This standard provides comprehensive guideline and procedures for properly extracting, collecting, conditioning, and handling a sample from a flowing natural gas stream at or above its dew point temperature and that represents the composition of the vapor-phase portion of the source fluid. This standard considers spot, composite, continuous, online, and mobile sampling systems and does not include sampling of liquid or multiphase streams. BSEE proposes to add a reference to this standard into § 250.1203(b).

API MPMS Chapter 14.3.1, Orifice Metering of Natural Gas and Other Related Hydrocarbon Fluids—Concentric, Square-Edged Orifice Meters, Part 1: General Equations and Uncertainty Guidelines, Fourth Edition, September 2012, Errata July 2013, Reaffirmed September 2017.

BSEE proposes to update the incorporation by reference of API MPMS Chapter 14.3.1, currently located at § 250.198(e)(47), from the 1990 Third edition to the 2012 Fourth edition, with Errata through 2013 and reaffirmation in 2017, in its regulations, and to relocate it to § 250.198(e)(46). The title of this standard changed from API MPMS Chapter 14, Section 3, Part 1 to API MPMS Chapter 14.3.1. The Fourth Edition made changes to equations to bring them into conformance with more recent practice. This standard provides a single reference for engineering equations, uncertainty, estimations, construction, and installation requirements, and standardized implementation recommendations for the calculation of flow rate through concentric, square-edged, flange-tapped orifice meters. Both U.S. customary and SI units are included. The standard is organized into four parts. Parts 1, 2, and 4 apply to the measurement of any Newtonian fluid in the petroleum and chemical industries. Part 3 focuses on the application of parts 1, 2, and 4 to the measurement of natural gas. This was previously titled Natural Gas Fluids Measurement, Section 3-Concentric, Square-Edged Orifice Meters, Part 1, now retitled as above to align with American Gas Association (AGA) Report No. 3, Part 1. The Department updated its incorporation of the Third edition of this standard into the regulations on March 15, 2007 (72 FR 12088). BSEE proposes to update the reference of this standard in § 250.1203(b).

API MPMS Chapter 14.3.2, Orifice Metering of Natural Gas and Other Related Hydrocarbon Fluids—Concentric, Square-Edged Orifice Meters, Part 2: Specification and Installation Requirements, Fifth Edition, March 2016, Errata 1, March 2017, Errata 2, January 2019, Reaffirmed January 2019.

BSEE proposes to update the incorporation by reference of API MPMS Chapter 14.3.2, currently located § 250.198(e)(48), from the 2000 Fourth edition to the 2016 Fifth edition, including subsequent errata and reaffirmation, in its regulations, and to relocate it to § 250.198(e)(47). The title of this standard changed from API MPMS Chapter 14, Section 3, Part 2 to API MPMS Chapter 14.3.2. The Fifth Edition made changes concerning normative references, specifications, considerations, and installation requirements. This publication outlines the specification and installation requirements for the measurement of single-phase, homogenous Newtonian fluids using concentric, square-edged, flange-tapped orifice meters. It provides specifications for the construction and installation of orifice plates, meter tubes, and associated fittings when designing metering facilities using orifice meters. The Department updated its incorporation of the Fourth edition of this standard into the regulations on March 15, 2007 (72 FR 12088). BSEE proposes to update the reference to this standard in § 250.1203(b).

API MPMS Chapter 14.3.3, Orifice Metering of Natural Gas and Other Related Hydrocarbon Fluids—Concentric Square-Edged Orifice Meters, Part 3: Natural Gas Applications, Fourth Edition, November 2013, Reaffirmed June 2021.

BSEE proposes to update the incorporation by reference of API MPMS Chapter 14.3.3, currently located at § 250.198(e)(49), from the Third to the Fourth edition in its regulations, and to relocate it to § 250.198(e)(48). The title of this standard changed from API MPMS Chapter 14, Section 3, Part 3 to API MPMS Chapter 14.3.3. The Fourth Edition made changes in the applicability of the use of standard conditions and added functionality to the flow equations. This standard was developed as an application guide for the calculation of natural gas flow through a flange-tapped, concentric orifice meter, using the U.S. customary inch-pound system of units. It also provides practical guidelines for applying MPMS 14.3.1 and MPMS 14.3.2 to the measurement of natural gas. The Department updated its incorporation of the Third edition of this standard into the regulations on March 15, 2007 (72 FR 12088). BSEE proposes to update the reference of this standard in § 250.1203(b).

API MPMS, Chapter 14.5/GPA Standard 2172-09; Calculation of Gross Heating Value, Relative Density, Compressibility and Theoretical Hydrocarbon Liquid Content for Natural Gas Mixtures for Custody Transfer; Third Edition, January 2009; reaffirmed November 2020 is incorporated by reference in the current § 250.198(e)(50) and will remain as previously incorporated by reference into the regulations, but will be renumbered in the proposed reorganized table as § 250.198(e)(49). BSEE is proposing to add an express reference to this standard in § 250.1203(b) to clarify the longstanding use of this document already incorporated in the current regulations.

API MPMS Chapter 14—Natural Gas Fluids Measurement, Section 6—Continuous Density Measurement, Second Edition April 1991, reaffirmed February 2006, has been withdrawn and is superseded by API MPMS Chapter 9.4—Continuous Density Measurement Under Dynamic (Flowing) Conditions, First Edition January 2018. Thus, BSEE is proposing to remove API MPMS Chapter 14, Section 6 from § 250.198(e)(51) and to incorporate API MPMS Chapter 9.4 into the regulations at § 250.198(e)(33), as discussed above.

API MPMS Chapter 14—Natural Gas Fluids Measurement, Section 8—Liquefied Petroleum Gas Measurement, Second Edition, July 1997; reaffirmed, March 2006 is incorporated by reference in the current § 250.198(e)(52) and will remain as previously incorporated by reference into the regulations, but will be renumbered in the proposed reorganized table as § 250.198(e)(50). BSEE is proposing to add an express reference to this standard in § 250.1203(b) to clarify the longstanding use of this document already incorporated in the current regulations.

API MPMS Chapter 20—Allocation Measurement, Section 1—Allocation Measurement, First Edition, September 1993, reaffirmed October 2016, Addendum 1 January 2013, Addendum 2 November 2016, Addendum 3 December 2017, Errata 1 November 2022, excluding sections 1.16.1, 1.16.3, 1.16.3.1, 1.16.3.2, and 1.16.3.3 of the First Edition, September 1993.

BSEE proposes to update the incorporation by reference of API MPMS Chapter 20, Section 1, currently located at § 250.198(e)(53), to include the 2016 Reaffirmation and Addenda and Errata in its regulations, and to relocate it to § 250.198(e)(51), excluding sections 1.16.1, 1.16.3, 1.16.3.1, 1.16.3.2, and 1.16.3.3 of the First Edition, September 1993. The excluded sections of the First Edition are superseded by API MPMS Chapter 20.3, First Edition January 2013, Reaffirmed October 2018, as further discussed below. The Addenda and Errata addressed measurement, calibration, equipment, and testing. This standard provides design and operating guidelines for liquid and gas allocation measurement systems. It includes recommendations for metering, static measurement, sampling, proving, calibrating, and calculating procedures. The Department updated its incorporation of the First edition of this standard into the regulations on March 15, 2007 (72 FR 12088). BSEE proposes to update the reference of this standard in § 250.1202(a) and § 250.1203(b).

API MPMS, Chapter 20.3—Measurement of Multiphase Flow, First Edition January 2013; reaffirmed October 2018.

BSEE proposes to incorporate by reference for the first time API MPMS Chapter 20.3, First Edition January 2013, Reaffirmed October 2018, into its regulations in § 250.198(e)(52). This document supersedes API Recommended Practice 86-2005, which is withdrawn. Further, this document supersedes API MPMS Chapter 20.1, First Edition 1993 sections 1.16.1, 1.16.3, 1.16.3.1, 1.16.3.2, and 1.16.3.3 and API Recommended Practice 85, First Edition 2003, portions of sections 4, 6.1, 6.2, 6.3, 6.4, 6.5, 6.6, and 6.7. This publication addresses multiphase flow measurement in the production environment, upstream of the custody transfer (single-phase) measurement point, where allocation measurement for onshore, offshore, or subsea is applied. For other multiphase flow measurement applications such as reservoir management, well tests, and flow assurance, the standard can be used as a reference or guide. However, the focus of this standard is on those applications where the accuracy of multiphase flow measurement for allocation systems is required. This document refers to existing standards and RPs to supplement the guidance it provides in this subject area. The document addresses principles used in multiphase flow measurement, multiphase metering types and classifications, assessment of expected performance, and selecting and operating multiphase measurement systems. It addresses operational requirements or constraints, including expectations for flow meter acceptance, calibration criteria, flow loop and in situ verifications, and other guidance specific to different multiphase flow metering applications. The document does not address specific meter configurations. BSEE proposes to add a reference to this standard in § 250.1203(b).

API MPMS, Chapter 20.5—Recommended Practice for Application of Production Well Testing in Measurement and Allocation, First Edition, December 2017; reaffirmed March 2023.

BSEE proposes to incorporate by reference for the first time API MPMS Chapter 20.5, First Edition, December 2017, into its regulations in § 250.198(e)(53). This document supersedes API MPMS Chapter 20.1, First Edition 1993, sections 1.7.2.2.2, 1.11.1, 1.16.3.2, 1.16.3.3, 1.16.3.5.1, and Appendix J. This publication establishes a framework to conduct and apply production well testing for well rate determination in measurement and allocation. Production well testing addressed in this document refers to measurement of gas, oil, and water quantities from a single well during a specified length of time under controlled operational conditions. The intent of this document is to provide operators with a consistent and transparent approach for conducting, applying, and managing production well testing within an upstream measurement and allocation system. It is not intended to prescribe a particular production well test method, or particular application of production well test data use in allocation. This document provides recommendations and guidelines for the application of production well testing in production measurement and allocation. The recommendations and guidelines apply to conducting a production well test, calculating production well test volumes and rates, and the application of production well test data for use in measurement and allocation. This includes production well testing preparation, initiation, measurement, validation, and volume and rate calculations for separator, multiphase flow meter, and tank production well test systems. Additionally, this document addresses the proration of production well test results for use in allocation, the application of production well tests for validation and update of well flow models and virtual flow metering, and the adjustment of gas well continuous measurement results with production well test data. This document also provides recommendations and guidelines for the application of well flow modeling and virtual flow metering in production measurement and allocation. BSEE proposes to add a reference to this standard in § 250.1203(b).

API MPMS Chapter 21—Flow Measurement Using Electronic Metering Systems, Section 1—Electronic Gas Measurement, First Edition, August 1993; reaffirmed, July 2005 is incorporated by reference in the current § 250.198(e)(54) and will remain as previously incorporated by reference into the regulations in the proposed reorganized table in § 250.198(e)(54). BSEE is proposing to add an express reference to this standard in § 250.1203(b) to clarify the longstanding use of this document already incorporated in the current regulations.

API MPMS Chapter 21—Flow Measurement Using Electronic Metering Systems, Section 2—Electronic Liquid Volume Measurement Using Positive Displacement and Turbine Meters; First Edition, June 1998; reaffirmed October 2016 is incorporated by reference in the current § 250.198(e)(55) and will remain as previously incorporated by reference in the proposed reorganized table in § 250.198(e)(55).

API MPMS Chapter 21—Flow Measurement Using Electronic Metering Systems, Addendum to Section 2—Flow Measurement Using Electronic Metering Systems, Inferred Mass; First Edition August 2000; reaffirmed October 2016 is incorporated by reference in the current § 250.198(e)(56) and will remain as previously incorporated by reference in the proposed reorganized table in § 250.198(e)(56).

API RP 2A-WSD, Recommended Practice for Planning, Designing, and Constructing Fixed Offshore Platforms—Working Stress Design, Twenty-second Edition, November 2014, Reaffirmation, September 2020.

BSEE proposes to update the incorporation by reference of API Recommended Practice 2A-WSD, currently located at § 250.198(e)(57), from the 2000 Twenty-first edition to the 2014 Twenty-second edition in its regulations, and will remain as previously incorporated by reference in § 250.198(e)(57). This RP is based on global industry best practices and serves as a guide for those who are concerned with the design and construction of new fixed offshore platforms and for the relocation of existing platforms used for the drilling, development, production, and storage of hydrocarbons in offshore areas. Specific guidance for hurricane conditions in the Gulf of Mexico and other U.S. offshore areas, previously provided in API RP 2A-WSD, 21st Edition, Section 2, is now provided in API RP 2MET. Specific guidance for earthquake loading in U.S. offshore areas, previously provided in the API RP 2A-WSD, 21st Edition, Section 2, is now provided in API 2EQ. Specific guidance for soil and foundation considerations in offshore areas, previously provided in API RP 2A-WSD, 21st Edition, Section 6, is now provided in API RP 2GEO. Specific guidance for the evaluation of structural damage, above and below water structural inspection, fitness-for-purpose assessment, risk reduction and mitigation planning, plus the process of decommissioning has been removed and is now provided in API RP 2SIM. Specific guidance for fire and blast loading, previously provided in the API RP 2A-WSD, 21st Edition, Section 18, is now provided in API 2FB. The Department updated its incorporation of the Twenty-first edition of this standard into the regulations on March 15, 2007 (72 FR 12088). BSEE proposes to update the reference of this standard in the existing regulations at: §§ 250.901, 250.908, 250.919, and 250.920.

API Spec 2C, Specification for Offshore Pedestal Mounted Cranes, Eighth Edition, October 2020; API Monogram Program Effective Date: May 1, 2021.

BSEE proposes to update the incorporation by reference of API Specification 2C, currently located at § 250.198(e)(81), from the 2004 Sixth edition to the 2020 Eighth edition in its regulations, and to relocate it to § 250.198(e)(58). The Eighth Edition made changes concerning normative references, documentation, loads, structure, mechanical, and ratings. This standard provides requirements for design, construction, and testing of new offshore pedestal-mounted cranes. Offshore cranes are defined as pedestal-mounted elevating and rotating lift devices for transfer of materials and personnel to or from marine vessels, barges, and structures or for transfer of materials to or from the sea or the seabed. Typical applications can include: offshore oil exploration and production applications which are typically mounted on a fixed structure, floating structure, or vessel used in drilling and production operations, shipboard applications which are mounted on surface-type vessels and are used to move cargo, containers, and other materials while the crane is within a harbor or sheltered area, and crane vessel applications which are typically mounted on ship-shaped vessels, semi-submersibles, barge, or self-elevating type marine vessels specialized in lifting heavy and/or unique loads for construction, pipe lay, renewable energy, salvage, and subsea applications in both harbor and offshore waters. The Department updated its incorporation of the Sixth edition of this standard into the regulations on April 28, 2010 (75 FR 22219). BSEE proposes to update the reference of this standard in the existing regulations at § 250.108.

API Standard 2CCU—Offshore Cargo Carrying Units; First Edition, August 2017.

BSEE proposes to incorporate by reference for the first time API Standard 2CCU, first Edition, August 2017, into its regulations in § 250.198(e)(59). API Standard 2CCU defines the design, material, manufacture, inspection, repair, maintenance, and marking requirements for offshore cargo carrying units (CCU) and lifting sets, to include dry-goods boxes, baskets, and other skids designed to move equipment and goods offshore with maximum gross weight up to 70,000 kg (154,323 lb.). Annex A outlines the assessment criteria and parameters for in-service CCU equipment for continued fit-for purpose applications by users of CCU equipment in conjunction with equipment built to this standard. BSEE proposes to add an incorporation by reference of this standard in § 250.108(g).

API RP 2D, Operation and Maintenance of Offshore Cranes, Seventh Edition, December 2014; Errata August 2015, Addendum 1, October 2020.

BSEE proposes to update the incorporation of API Recommended Practice 2D, currently located at § 250.198(e)(58), from the 2007 Sixth edition to the 2014 Seventh edition in its regulations, and to relocate it to § 250.198(e)(60). The Seventh Edition added refueling, fire extinguishers, load testing, pull testing, derating, planning, risk assessment, lift plans, design, and preventative maintenance. This standard establishes general principles for the safe operation and maintenance of offshore pedestal-mounted revolving cranes on fixed or floating offshore platforms, offshore support vessels, jackup drilling rigs, semi-submersible drilling rigs and other types of mobile offshore drilling units, as a companion to API Spec 2C and API 2D-2. This standard also provides requirements and recommendations for lift planning, pre-use inspection, and testing of temporary cranes that are erected offshore.

Typical applications can include:

(1) Offshore oil exploration and production applications: These cranes are typically mounted on a fixed (bottom-supported) structure, floating platform structure, or vessel used in drilling and production operations,

(2) Shipboard applications: These lifting devices are mounted on surface-type vessels and are used to move cargo, containers, and other materials while the crane is within a harbor or sheltered area, and

(3) Crane vessel applications.

These cranes are typically mounted on ship-shaped vessels, semisubmersibles, barges, or self-elevating-type marine vessels specialized in lifting heavy and/or unique loads for construction, pipe lay, renewable energy, salvage, and subsea applications in both harbor and offshore waters. Equipment (e.g., davits, launch frames) used only for launching life-saving appliances (lifeboats or life rafts) are not included in the scope of this standard. Lifting devices not covered by this standard would be operated, inspected, and maintained in accordance with the manufacturer's recommendations. The Department updated its incorporation of the Sixth edition of this standard into the regulations on April 28, 2010 (75 FR 22219). BSEE proposes to update the reference of this standard in § 250.108.

API RP 2FPS, Recommended Practice for Planning, Designing, and Constructing Floating Production Systems, Second Edition, October 2011; Reaffirmed September 2020.

BSEE proposes to update the incorporation by reference of API Recommended Practice 2FPS, currently located at § 250.198(e)(59), from the 2001 First edition to the 2011 Second edition in its regulations, and to relocate it to § 250.198(e)(61). The Second Edition made changes to bring the document into conformance with more recent practice, namely adding as normative references five API documents (API RP 2A-WSD, API Bulletin 2INT-MET, API RP 2SK, API RP 14J, 75L) and four ISO documents (13702, 19900-2002, 19901-1, 19902-2007). This document provides requirements and guidance for the structural design and/or assessment of floating offshore platforms used by the petroleum and natural gas industries to support the following functions: production, storage and/or offloading, and drilling. The Department updated its incorporation of the First edition of this standard into the regulations on April 28, 2010 (75 FR 22219). BSEE proposes to update the reference of this standard in the existing regulations at: § 250.901.

API RP 2FSIM—Floating Systems Integrity Management, First Edition, September 2019.

BSEE proposes to incorporate by reference for the first time API RP 2FSIM First Edition, September 2019 into its regulations in § 250.198(e)(62). This RP provides guidance for floating system integrity management of floating production systems, which include tension leg platforms, used by the petroleum and natural gas industries to support drilling, production, storage, and/or offloading operations. Floating production systems described in this document are governed by local regulatory requirements and recognized classification society (RCS) rules, if classed. No specific regulatory compliance or RCS requirements are restated in the document. The requirements of this document do not apply to mobile offshore drilling units or to mobile offshore units used in support of construction operations. This document does not address dynamic positioning, moorings, or risers. BSEE proposes to add a reference to this standard in § 250.901.

API RP 2GEO—Geotechnical and Foundation Design Considerations; First Edition, April 2011, Addendum 1, October 2014; Includes all amendments and changes through Reaffirmation Notice, January 2021.

BSEE proposes to incorporate by reference for the first time API RP 2GEO, First Edition October 2014, including all addenda and amendments through the January 2021 reaffirmation, into its regulations in § 250.198(e)(63). This document contains requirements and recommendations for those aspects of geoscience and foundation engineering that are applicable to a broad range of offshore structures, rather than to a particular structure type. Such aspects are site characterization, soil and rock characterization, design and installation of foundations supported by the seabed (shallow foundations), identification of hazards, design of pile foundations, and soil-structure interaction for risers, flowlines, and auxiliary subsea structures. Aspects of soil mechanics and foundation engineering are not addressed by the document. BSEE proposes to add a reference to this standard in § 250.901.

API RP 2I, In-Service Inspection of Mooring Hardware for Floating Structures; Third Edition, April 2008 is incorporated by reference in the current § 250.198(e)(60) and will remain as previously incorporated by reference into the regulations, but will be renumbered in the proposed reorganized table as§ 250.198(e)(64).

API RP 2MET—Derivation of Metocean Design and Operating Conditions; Second Edition, January 2021; ISO 19901-1:2015 (Modified) Part 1.

BSEE proposes to incorporate by reference for the first time API RP 2MET, Second Edition, January 2021 into its regulations in § 250.198(e)(65). This standard gives requirements for the determination and use of meteorological and oceanographic (metocean) conditions for the design, construction, and operation of offshore structures of all types used in the petroleum, natural gas, and renewable energy industries. The requirements are divided into two broad types: those that relate to the determination of environmental conditions in general, together with the metocean parameters that are required to adequately describe them; and those that relate to the characterization and use of metocean parameters for the design, the construction activities, or the operation of offshore structures. BSEE proposes to add a reference to this standard in § 250.901.

API RP 2MIM—Mooring Integrity Management; First Edition, September 2019.

BSEE proposes to incorporate by reference for the first time API RP 2MIM, First Edition, September 2019 into its regulations in § 250.198(e)(66). This RP provides guidance for the integrity management of mooring systems connected to a permanent floating production system used for the drilling, development, production, and/or storage of hydrocarbons in offshore areas. The scope of this RP extends from the anchor to the connection to the floating unit (e.g., chain stopper) and includes components critical to the mooring system (e.g., turret bearings, fairleads, chain stoppers, anchors, suction piles). BSEE proposes to add an incorporation by reference to this standard in § 250.901.

ANSI/API RP 2N, Recommended Practice for Planning, Designing, and Constructing Structures and Pipelines for Arctic Conditions, Third Edition, April 2015, ISO 19906:2010 (Modified) is incorporated by reference in the current § 250.198(e)(61) and will remain as previously incorporated by reference into the regulations, but will be renumbered in the proposed reorganized table as § 250.198(e)(67).

API Standard 2RD, Dynamic Risers for Floating Production Systems, Second Edition, September 2013, Reaffirmed September 2020.

BSEE proposes to update the incorporation by reference of API Standard 2RD, currently located at § 250.198(e)(62), from the 1998 Recommended Practice First Edition to the 2013 Standard Second Edition in its regulations, and to relocate it to § 250.198(e)(68). The type and title of this document changed from API Recommended Practice 2RD to API Standard 2RD. The Standard Second Edition was updated to include high pressure high temperature considerations for hydrocarbon exploration and production in deep waters and made changes to testing to bring the document into conformance with more recent practice. This standard discusses riser systems that are part of a floating production system. Guidelines for design, construction, installation, operation, and maintenance of FPSs are in API RP 2FPS. A riser is a subsystem in a floating production system. The provisions of this standard do not apply to the riser systems of mobile offshore drilling units. There is significant interaction among the subsystems in a floating production system. Hull motions affect risers and mooring, and conversely, risers and mooring affect hull motions. Global behavior of the system provides input to assessment of subsystems. Assessment of a subsystem provides feedback (loads) for assessment of the hull and other subsystems. Determination of the boundaries of a riser system and management of the interactions with other subsystems is the responsibility of the operator. A riser system is an assembly of components, including pipe and connectors. A riser system can include a riser tensioning system, buoyancy modules, etc. Pipe components can be steel, titanium, or unbonded flexible pipe. Design considerations for unbonded flexible pipe are included primarily by reference to API 17B and API Spec 17J. Design considerations for titanium alloy pipe are included primarily by reference to DNV-RP-F201. Steel and titanium pipe are referred to as rigid pipe and unbonded flexible pipe is referred to as flexible pipe. All or part of several existing codes, standards, specifications, and RPs are included by reference. Design loads and conditions are described in Section 4. Structural design criteria for rigid pipe are in Section 5. Structural capacity formulae for steel pipe are also in Section 5. Additional requirements for components, including pipe, are in Section 6. Material requirements are in Section 7. Fabrication and installation requirements are in Section 8. Integrity Management is addressed in Section 9. BSEE updated its incorporation of the First edition of this standard into the regulations on April 29, 2016 (81 FR 25888). BSEE proposes to update the reference of this standard in §§ 250.733, 250.800(c), 250.901, and 250.1002(b).

API RP 2RIM—Integrity Management of Risers from Floating Production Systems; First Edition, September 2019.

BSEE proposes to incorporate by reference for the first time API RP 2RIM, First Edition, September 2019 into its regulations in § 250.198(e)(69). This RP provides guidance for the integrity management of risers connected to a permanent floating production system used for the drilling, development, production, and storage of hydrocarbons in offshore areas. A riser is typically part of a larger subsea system extending from a wellhead, tree, manifold, template, or other structure on the seabed, to a boarding valve or pig trap on the host platform's topsides. This document addresses the integrity management of the dynamic portion of the riser system. For the purposes of this document, a riser has a top boundary that is somewhere at or above the point where it transfers load to the platform structure, and it has a lower boundary where it transfers load into a foundation, which could be a wellhead, pipeline, or subsea structure. For a top-tensioned riser, the top boundary would typically be the tensioner system hang-off point, and the bottom boundary would be the wellhead. For a steel catenary riser (SCR), the top boundary would typically be the stress joint or flexible joint. Unusual configurations, such as pull-tube steel catenary risers, merit special consideration. The top boundaries of a flexible or hybrid riser are typically a flanged connection to the riser end fitting at the top of an I-tube or J-tube, and a bend stiffener at the bottom of an I-tube or J-tube. The integrity management of the structural support for a riser on the host platform is in the scope of API RP 2FSIM, although some hybrid configurations, such as pull tubes, can require overlapping riser and structural integrity management. For risers structurally connected to the platform below the topsides, hull piping can be structurally clamped to the hull up to a boarding valve or pig launcher at the topsides. BSEE proposes to add an incorporation by reference to this standard in § 250.901.

API RP 2SIM—Structural Integrity Management of Fixed Offshore Structures, First Edition, November 2014; reaffirmed September 2020.

BSEE proposes to incorporate by reference for the first time API RP 2SIM, First Edition, November 2014, reaffirmed September 2020, into its regulations in § 250.198(e)(70). This RP provides guidance for the structural integrity management of existing fixed offshore structures used for the drilling, development, production, and storage of hydrocarbons in offshore areas. However, the general principles of SIM apply to any structure. Specific guidance is provided for the evaluation of structural damage, above- and below-water structural inspection, fitness-for-purpose assessment, risk reduction, mitigation planning, and the process of decommissioning. This RP incorporates and expands on the recommendations of Section 14, “Surveys” and Section 17, “Assessment of Existing Platforms” as previously provided in API RP 2A-WSD, 21st Edition. See Annex A for additional information and guidelines on the provisions stated in the numbered sections of this document. The structural integrity management process provided in this RP is applicable to existing platforms installed at any location worldwide. However, the RP provides specific met-ocean criteria, which are only applicable for use in fitness-for-purpose assessments of platforms located in the U.S. Gulf of Mexico and off the U.S. West Coast. For guidelines, RPs, and other requirements relating to planning, designing, and constructing new fixed offshore platforms, including reuse and change-in-use of existing platforms, reference should be made to the latest edition of API RP 2A-WSD. For guidelines, RPs, and other requirements relating to planning, designing, and constructing new offshore floating production systems, including reuse and change-in-use of existing floating production systems, reference should be made to the latest edition of API RP 2FPS. BSEE proposes to add an incorporation by reference of this standard in § 250.901(d).

API RP 2SK, Design and Analysis of Stationkeeping Systems for Floating Structures, Third Edition, October 2005, Addendum, May 2008, reaffirmed June 2015 is incorporated by reference in the current § 250.198(e)(63) and will remain as previously incorporated by reference into the regulations, but will be renumbered in the proposed reorganized table as § 250.198(e)(71).

API RP 2SM, Recommended Practice for Design, Manufacture, Installation, and Maintenance of Synthetic Fiber Ropes for Offshore Mooring, Second Edition, July 2014; Reaffirmation, September 2020.

BSEE proposes to update the incorporation of API Recommended Practice 2SM, currently located at § 250.198(e)(64), from the 2001 First edition to the 2014 Second edition in its regulations, and to relocate it to § 250.198(e)(72). The Second Edition made changes to include applications to floating production, storage, and offloading units, floating storage units, mobile offshore drilling units, spar platforms, catenary anchor leg mooring buoys, and mobile offshore units. Further, the Second Edition added provisions for rope design, specification, and testing. This document applies to synthetic fiber ropes used in the form of taut leg or catenary moorings for both permanent and temporary offshore installations. This document covers the following aspects of synthetic fiber ropes: design and analysis considerations of mooring system, design criteria for mooring components, rope design, rope specification and testing, rope manufacture and quality assurance, rope handling and installation, and in-service inspection and maintenance. Application of this document to other offshore mooring applications is at the discretion of the designer and operator. This document is not intended to cover other marine applications of synthetic fiber ropes such as tanker mooring at piers and harbors, towing hawsers, mooring hawsers at single-point moorings, and tension leg platform tethers. Additionally, very little test data are available for large synthetic fiber ropes permanently deployed around fairleads and thus this document is limited to fiber ropes which span freely between end terminations. The Department updated its incorporation of the First edition of this standard into the regulations on April 28, 2010 (75 FR 22219). BSEE proposes to update the reference of this standard in the existing regulations at: §§ 250.800(c) and 250.901.

API RP 2T, Recommended Practice for Planning, Designing, and Constructing Tension Leg Platforms, Third Edition, July 2010, reaffirmed June 2015.

BSEE proposes to update the incorporation by reference of API Recommended Practice 2T, currently located at § 250.198(e)(65), from the 1997 Second edition to the 2010 Third edition in its regulations, and to relocate it to § 250.198(e)(73). The Third Edition made changes to include normative references, seafloor characteristics, materials-welding-corrosion protection, design criteria, safety categories, design load cases, vortex-induced vibrations, system and frequency domain modeling, material considerations, and design loads. This RP is a guide to the designer in organizing an efficient approach to the design of a tension leg platform. Emphasis is placed on participation of all engineering disciplines during each stage of planning, development, design, construction, installation, and inspection. The Department updated its incorporation of the Second edition of this standard into the regulations on April 28, 2010 (75 FR 22219). BSEE proposes to update the reference of this standard in the existing regulations at § 250.901.

API Specification 6A, Specification for Wellhead and Christmas Tree Equipment, Twenty-First Edition, November 2018, API Monogram Program Effective Date: November 2019, Errata 1 April 2019, Errata 2 June 2020, Errata 3 September 2020, Errata 4 September 2021, Addendum 1 July 2020 (API Monogram Program Effective Date: January 2021), Addendum 2, June 2021 (API Monogram Program Effective Date: December 2021), Addendum 3, August 2022 (API Monogram Program Effective Date: February 2023).

BSEE proposes to update the incorporation by reference of API Specification 6A, currently located at § 250.198(e)(82), from the 2010 Twentieth edition to the 2018 Twenty-first edition, including Errata through 2021 and Addenda through 2022, in its regulations, and to relocate it to § 250.198(e)(74). The title of this standard changed from ANSI/API Spec. 6A to API Specification 6A. The Twenty-First Edition made changes concerning normative references, performance, design, materials, welding, bolting, pressure boundaries, and quality control. This specification provides requirements and gives recommendations for the performance, dimensional and functional interchangeability, design, materials, testing, inspection, welding, marking, handling, storing, shipment, and purchasing of wellhead and tree equipment for use in the petroleum and natural gas industries. This specification establishes requirements for four product specification levels (PSLs), namely, PSL 1, PSL 2, PSL 3, and PSL 4 as well as a supplemental designation of PSL 3G that define different levels of technical quality requirements. The subject matter of Annexes B, C, D, E, F, G, H, I, J, K, L, and M has been arranged in a way that minimizes the impact of changes on users of this document. BSEE updated its incorporation of the Twentieth edition of this standard into the regulations on September 28, 2018 (83 FR 49216). BSEE proposes to update the reference of this standard in existing regulations at: §§ 250.730, 250.802(a), 250.803(a), 250.833, 250.873(b), 250.874(g), and 250.1002(b).

API Standard 6AV1, Validation of Safety and Shutdown Valves for Sandy Service, Third Edition, July 1, 2018

BSEE proposes to update the incorporation by reference of API Standard 6AV1, currently located at § 250.198(e)(83), from the 2013 Specification Second Edition to the 2018 Standard Third Edition in its regulations, and to relocate it to § 250.198(e)(75). The Third Edition modified the Second Edition sufficient to change the document designation from Specification to Standard. Changes between editions included the terms and conditions, equipment specifications, validation requirements, seal tests, and procedural requirements. Further, the Standard establishes sandy service design validation for valves to meet Class II and Class III, but not for Class I safety valves or actuators. There are three service classes, Class I, Class II, and Class III, for API Specification 6A surface safety valve, underwater safety valve, or boarding shutdown valve. Class II is intended to validate the valve bore sealing mechanism if substances such as sand can be expected to cause safety or shutdown valve failure. Class III adds requirements and validation of the bonnet assembly inclusive of stem seals. BSEE updated its incorporation of the Second edition of this document into the regulations on September 28, 2018 (83 FR 49216). BSEE proposes to update the reference of this standard in BSEE's existing regulations at: §§ 250.802(a), 250.833, 250.873(b), and 250.874(g).

API STD 6AV2, Installation, Maintenance, and Repair of Surface Safety Valves and Underwater Safety Valves Offshore; First Edition, March 2014; Errata 1, August 2014 is incorporated by reference in the current § 250.198(e)(84) and will remain as previously incorporated by reference into the regulations, but will be renumbered in the proposed reorganized table as § 250.198(e)(76).

API Specification 6D, Specification For Pipeline Valves, Twenty-fifth Edition November 2021, API Monogram Program Effective Date: November 2022, Errata 1 December 2021, Errata 2 April 2022, Addendum 1 April 2023.

BSEE proposes to update the incorporation by reference of API Specification 6D, currently located at § 250.198(e)(85), from the 2008 Twenty-third edition to the 2021 Twenty-fifth edition, with all amendments and errata through April 2022, in its regulations, and to relocate it to § 250.198(e)(77). The Twenty-fifth Edition made changes concerning configuration, performance, pressure and temperature ratings, design, impact tests, welding, and inspections. This specification defines the requirements for the design, manufacturing, assembly, testing, and documentation of ball, check, gate, and plug valves for application in pipeline and piping systems for the petroleum and natural gas industries. If product is supplied bearing the API Monogram and manufactured at a facility licensed by API, the requirements of Annex A apply. Annexes B, C, D, E, F, G, H, I, J, K, L, M, N, and O are annexes that are used in the order listed. This specification is not applicable to subsea pipeline valves, which are covered by a separate specification, API 6DSS. This specification is not applicable to valves for pressure ratings exceeding Class 2500. The Department updated its incorporation of the Twenty-third edition of this standard into the regulations on April 28, 2010 (75 FR 22219). BSEE proposes to update the reference of this standard in BSEE's existing regulations at § 250.1002(b).

API Spec 11D1, Packers and Bridge Plugs, Second Edition, July 2009 is incorporated by reference in the current § 250.198(e)(86) and will remain as previously incorporated by reference into the regulations, but will be renumbered in the proposed reorganized table as § 250.198(e)(78).

ANSI/API Spec 14A, Specification for Subsurface Safety Valve Equipment, Eleventh Edition, October 2005, reaffirmed, June 2012 is incorporated by reference in the current § 250.198(e)(87) and will remain as previously incorporated by reference into the regulations, but will be renumbered in the proposed reorganized table as § 250.198(e)(79).

API RP 14B, Design, Installation, Operation, Test, and Redress of Subsurface Safety Valve Systems, Sixth Edition, September 2015 is incorporated by reference in the current § 250.198(e)(66) and will remain as previously incorporated by reference into the regulations, but will be renumbered in the proposed reorganized table as § 250.198(e)(80).

API RP 14C, Recommended Practice for Analysis, Design, Installation, and Testing of Basic Surface Safety Systems for Offshore Production Platforms, Seventh Edition, March 2001, reaffirmed: March 2007 is incorporated by reference in the current § 250.198(e)(67) and will remain as previously incorporated by reference into the regulations, but will be renumbered in the proposed reorganized table as § 250.198(e)(81).

API RP 14E, Recommended Practice for Design and Installation of Offshore Production Platform Piping Systems, Fifth Edition, October 1991; reaffirmed, January 2013 is incorporated by reference in the current § 250.198(e)(68) and will remain as previously incorporated by reference into the regulations, but will be renumbered in the proposed reorganized table as § 250.198(e)(82).

API RP 14F, Recommended Practice for Design, Installation, and Maintenance of Electrical Systems for Fixed and Floating Offshore Petroleum Facilities for Unclassified and Class 1, Division 1 and Division 2 Locations, Upstream Segment, Fifth Edition, July 2008, reaffirmed: April 2013 is incorporated by reference in the current § 250.198(e)(69) and will remain as previously incorporated by reference into the regulations, but will be renumbered in the proposed reorganized table as § 250.198(e)(83).

API RP 14FZ, Recommended Practice for Design, Installation, and Maintenance of Electrical Systems for Fixed and Floating Offshore Petroleum Facilities for Unclassified and Class I, Zone 0, Zone 1 and Zone 2 Locations, Second Edition, May 2013 is incorporated by reference in the current § 250.198(e)(70) and will remain as previously incorporated by reference into the regulations, but will be renumbered in the proposed reorganized table as § 250.198(e)(84).

API RP 14G, Recommended Practice for Fire Prevention and Control on Fixed Open-type Offshore Production Platforms, Fourth Edition, April 2007; Reaffirmed, January 2013 is incorporated by reference in the current § 250.198(e)(71) and will remain as previously incorporated by reference into the regulations, but will be renumbered in the proposed reorganized table as § 250.198(e)(85).

API RP 14J, Recommended Practice for Design and Hazards Analysis for Offshore Production Facilities, Second Edition, May 2001; reaffirmed: January 2013 is incorporated by reference in the current § 250.198(e)(72) and will remain as previously incorporated by reference into the regulations, but will be renumbered in the proposed reorganized table as § 250.198(e)(86).

API Spec 16A, Specification for Drill-through Equipment, Third Edition, June 2004, reaffirmed August 2010 is incorporated by reference in the current § 250.198(e)(88) and will remain as previously incorporated by reference into the regulations, but will be renumbered in the proposed reorganized table as § 250.198(e)(87).

API Spec 16C, Specification for Choke and Kill Systems, First Edition, January 1993, reaffirmed July 2010 is incorporated by reference in the current § 250.198(e)(89) and will remain as previously incorporated by reference into the regulations, but will be renumbered in the proposed reorganized table as § 250.198(e)(88).

API Spec 16D, Specification for Control Systems for Drilling Well Control Equipment and Control Systems for Diverter Equipment, Second Edition, July 2004, reaffirmed August 2013 is incorporated by reference in the current § 250.198(e)(90) and will remain as previously incorporated by reference into the regulations, but will be renumbered in the proposed reorganized table as § 250.198(e)(89).

API RP 16ST, Coiled Tubing Well Control Equipment Systems, Second Edition, February 2021, Addendum 1, February 2022.

BSEE proposes to add an incorporation by reference of API Recommended Practice 16ST in its regulations in § 250.198(e)(90). This RP addresses coiled tubing well control equipment assembly and operation as it relates to well control practices. This document covers well control equipment assembly and operations used in coiled tubing intervention and coiled tubing drilling/milling applications performed through: tree equipment constructed in accordance with API Specification 6A or API 11IW or both, a surface flow head or surface test tree constructed in accordance with API Specification 6A, a fracture stimulation wellhead assembly (with at least two gate valves installed for isolation), drill pipe or workstrings with connections manufactured in accordance with API 5CT, API 5DP or API 7-1, or a combination thereof. Industry practices for performing well control operations using fluids for hydrostatic pressure balance are not addressed in this document. BSEE proposes to add a reference to this standard in § 250.750(c).

API Specification 17D, Specification for Subsea Wellhead and Tree Equipment, Third Edition, October 2021, API Monogram Program Effective Date: October 2022, Errata 1, December 2021, Addendum 1, December 2022.

BSEE proposes to update the incorporation by reference of API Specification 17D, currently located at § 250.198(e)(91), from the 2011 Second edition to the 2021 Third edition, with subsequent errata and addendum, in its regulations, and this standard will remain previously incorporated by reference in § 250.198(e)(91). The title of this standard is corrected from ANSI/API Specification 17D to API Specification 17D. The Third Edition made changes concerning configuration, performance, and several design equations. This document provides specifications for subsea wellheads, mudline wellheads, drill-through mudline wellheads, and both vertical and horizontal subsea trees. It specifies the associated tooling necessary to handle, test, and install the equipment. It also specifies the areas of design, material, welding, quality control, including factory acceptance testing, marking, storing, and shipping for individual equipment, subassemblies, and subsea tree assemblies. BSEE updated its incorporation of the Second edition of this standard into the regulations on April 29, 2016 (81 FR 25888). BSEE proposes to update the reference of this standard in § 250.730.

API RP 17H, Remotely Operated Tools and Interfaces on Subsea Production Systems, Second Edition, June 2013; Errata, January 2014 is incorporated by reference in the current § 250.198(e)(73) and will remain as previously incorporated by reference into the regulations, but will be renumbered in the proposed reorganized table as § 250.198(e)(92).

API Spec 17J, Specification for Unbonded Flexible Pipe, Fourth Edition, May 2014, Effective Date: November 2014, Errata 1 September 2016, Errata 2 May 2017, Addendum 1 October 2017, reaffirmed March 2021.

BSEE proposes to update the incorporation by reference of API Spec 17J, currently located at § 250.198(e)(92), from the 2008 Third edition to the 2014 Fourth edition, including all changes through the 2021 Reaffirmation, in its regulations, and to relocate it to § 250.198(e)(93). The Fourth Edition made changes concerning normative references, design parameters, quality assurance requirements, and testing. The document defines the technical requirements for safe, dimensionally, and functionally interchangeable flexible pipes that are designed and manufactured to uniform standards and criteria. Minimum requirements are specified for the design, material selection, manufacture, testing, marking, and packaging of flexible pipes, with reference to existing codes and standards where applicable. API Spec 17J applies to unbonded flexible pipe assemblies, consisting of segments of flexible pipe body with end fittings attached to both ends. The applications addressed by API Spec 17J are sweet and sour service production, including export and injection applications. Production products include oil, gas, water, and injection chemicals. API Spec 17J applies to both static and dynamic flexible pipes used as flowlines, risers, and jumpers. The Department updated its incorporation of the Third edition of this standard into the regulations on April 28, 2010 (75 FR 22219). BSEE proposes to update the reference of this standard in the existing regulations at: §§ 250.852(e), 250.1002(b), and 250.1007(a).

API Spec 20E—Alloy and Carbon Steel Bolting for Use in the Petroleum and Natural Gas Industries, Second Edition, February 2017, Effective Date: August 2017, Addendum 1 September 2018, Addendum 2 March 2019, Errata 1 November 2021, Errata 2 May 2022.

BSEE proposes to incorporate by reference for the first time API Spec 20E, Second Edition, February 2017, including all addenda and errata through May 2022, into its regulations in § 250.198(e)(94). This document specifies requirements for the qualification, production, and documentation of alloy and carbon steel bolting used in the petroleum and natural gas industries. This document applies when referenced by an applicable API equipment standard or otherwise specified as a requirement for compliance. An annex for supplemental requirements that may be invoked by the purchaser is included. This document establishes requirements for three bolting specification levels (BSL). These three BSL designations define different levels of technical, quality, and qualification requirements, BSL-1, BSL-2, and BSL-3. The BSLs are numbered in increasing levels of severity in order to reflect increasing technical, quality, and qualification criteria. This document covers the following finished product forms, processes, and sizes: machined studs, machined bolts, screws and nuts, cold formed bolts, screws, and nuts (BSL-1 only), hot formed bolts and screws <1.5 in. (38.1 mm) nominal diameter, hot formed bolts and screws > or = 1.5 in. (38.1 mm) nominal diameter, roll threaded studs, bolts, and screws <1.5 in. (38.1 mm) diameter, roll threaded studs, bolts, and screws > or = 1.5 in. (38.1 mm) diameter, hot formed nuts <1.5 in. (38.1 mm) nominal diameter, and hot formed nuts > or = 1.5 in. (38.1 mm) nominal diameter. BSEE proposes to add an incorporation by reference to this standard in § 250.730(a).

API Spec 20F—Corrosion-resistant Bolting for Use in the Petroleum and Natural Gas Industries, Second Edition, May 2018, API Monogram Program Effective Date: November 1, 2018, Errata 1 October 2020, Addendum 1 November 2021 (API Monogram Program Effective Date: May 1, 2022).

BSEE proposes to incorporate by reference for the first time API Spec 20F, Second Edition, including all addenda and errata through November 2021, into its regulations in § 250.198(e)(95). This document specifies requirements for the qualification, production, and documentation of corrosion-resistant bolting used in the petroleum and natural gas industries. This document applies when referenced by an applicable API equipment standard or otherwise specified as a requirement for compliance. This document establishes requirements for two bolting specification levels (BSL). These two BSL designations define different levels of technical, quality, and qualification requirements: BSL-2 and BSL-3. The BSLs are numbered in increasing levels of requirements in order to reflect increasing technical, quality, and qualification criteria. BSL-2 and BSL-3 are intended to be comparable to BSL-2 and BSL-3 as found in API Spec 20E. BSL-1 is omitted from this standard. This document covers the following product forms, processes, and sizes: machined studs, machined bolts, screws, and nuts, cold-formed bolts, screws, and nuts with cut or cold-formed threads, hot-formed bolts and screws <1.5 in. (38.1 mm) nominal diameter, hot-formed bolts and screws ≥1.5 in. (38.1 mm) nominal diameter, roll threaded studs, bolts, and screws <1.5 in. (38.1 mm) diameter, roll threaded studs, bolts, and screws ≥1.5 in. (38.1 mm) diameter, hot-formed nuts <1.5 in. (38.1 mm) nominal diameter, and hot-formed nuts ≥1.5 in. (38.1 mm) nominal diameter. BSEE proposes to add an incorporation by reference of this standard in § 250.730(a).

API Standard 53, Blowout Prevention Equipment Systems for Drilling Wells, Fifth Edition, December 2018.

BSEE proposes to update the incorporation by reference of API Standard 53, currently located at § 250.198(e)(94), from the 2012 Fourth edition to the 2018 Fifth edition in its regulations, and to relocate it to § 250.198(e)(96). The Fifth Edition made changes concerning sealing components, pressure measurement, control systems, testing, and examples. This document provides the requirements for the installation and testing of blowout prevention equipment systems on land and marine drilling rigs (barge, platform, bottom-supported, and floating). Well control equipment systems are designed with components that provide wellbore pressure control in support of well operations. The primary functions of these systems are to confine well fluids to the wellbore, provide means to add fluid to the wellbore, and allow controlled volumes to be removed from the wellbore. BSEE updated its incorporation of the Fourth edition of this standard into the regulations on April 29, 2016 (81 FR 25888). BSEE proposes to update the reference of this standard in the existing regulations at: §§ 250.730, 250.734, 250.735, 250.736, 250.737, and 250.739.

API RP 65, Recommended Practice for Cementing Shallow Water Flow Zones in Deepwater Wells, First Edition, September 2002 is incorporated by reference in the current § 250.198(e)(74) and will remain as previously incorporated by reference into the regulations, but will be renumbered in the proposed reorganized table as § 250.198(e)(97).

API Standard 65—Part 2, Isolating Potential Flow Zones During Well Construction; Second Edition, December 2010 is incorporated by reference in the current § 250.198(e)(95) and will remain as previously incorporated by reference into the regulations, but will be renumbered in the proposed reorganized table as § 250.198(e)(98).

API RP 75, Recommended Practice for Development of a Safety and Environmental Management Program for Offshore Operations and Facilities, Third Edition, May 2004, reaffirmed May 2008 is incorporated by reference in the current § 250.198(e)(75) and will remain as previously incorporated by reference into the regulations, but will be renumbered in the proposed reorganized table as § 250.198(e)(99).

API RP 90, Annular Casing Pressure Management for Offshore Wells, First Edition, August 2006 is incorporated by reference in the current § 250.198(e)(77) and will remain as previously incorporated by reference into the regulations, but will be renumbered in the proposed reorganized table as § 250.198(e)(100).

API RP 500, Recommended Practice for Classification of Locations for Electrical Installations at Petroleum Facilities Classified as Class I, Division 1 and Division 2, Third Edition, December 2012; Errata January 2014 is incorporated by reference in the current § 250.198(e)(78) and will remain as previously incorporated by reference into the regulations, but will be renumbered in the proposed reorganized table as § 250.198(e)(101).

API RP 505, Recommended Practice for Classification of Locations for Electrical Installations at Petroleum Facilities Classified as Class I, Zone 0, Zone 1, and Zone 2, First Edition, November 1997; reaffirmed, August 2013 is incorporated by reference in the current § 250.198(e)(79) and will remain as previously incorporated by reference into the regulations, but will be renumbered in the proposed reorganized table as § 250.198(e)(102).

API 510, Pressure Vessel Inspection Code: In-Service Inspection, Rating, Repair, and Alteration, Tenth Edition, May 2014; Addendum 1, May 2017 is incorporated by reference in the current § 250.198(e)(1) and will remain as previously incorporated by reference into the regulations, but will be renumbered in the proposed reorganized table as § 250.198(e)(103).

API 570, Piping Inspection Code: In-service Inspection, Rating, Repair, and Alteration of Piping Systems, Fourth Edition, February 2016; Addendum 1, May 2017 is incorporated by reference in the current § 250.198(e)(2) and will remain as previously incorporated by reference into the regulations, but will be renumbered in the proposed reorganized table as § 250.198(e)(104).

API Standard 2552, USA Standard Method for Measurement and Calibration of Spheres and Spheroids, First Edition, 1966; reaffirmed, October 2007 is incorporated by reference in the current § 250.198(e)(96). BSEE proposes to remove the reference to API Standard 2552, USA Standard Method for Measurement and Calibration of Spheres and Spheroids, First Edition, 1966; reaffirmed, October 2007 because the document provided best practices as of 1965 which is now outdated and not applicable with the measurement and calibration requirements presently used.

API Standard 2555, Method for Liquid Calibration of Tanks, First Edition, September 1966; reaffirmed May 2014.

BSEE proposes to update the incorporation by reference of API Standard 2555, currently located at § 250.198(e)(97), to include reference to a newer 2014 Reaffirmation in its regulations, and to relocate it to § 250.198(e)(105). This standard describes the procedure for calibrating tanks, or portions of tanks, larger than a barrel or drum by introducing or withdrawing measured quantities of liquid. The Department updated its incorporation of the First edition of this standard into the regulations on April 28, 2010 (75 FR 22219). This update reflects a more recent reaffirmation of the standard without substantive change. BSEE proposes to update the reference of this standard in § 250.1202.

API RP 2556, Recommended Practice for Correcting Gauge Tables for Incrustation, Second Edition, August 1993; reaffirmed November 2013.

BSEE proposes to update the incorporation by reference of API Recommended Practice 2556, currently located at § 250.198(e)(80), to include a newer 2013 Reaffirmation in its regulations, and to relocate it to § 250.198(e)(106). Incrustation is defined for the purpose of this RP as any material that adheres to the internal vertical sidewall surfaces of a tank when the tank is otherwise empty. Incrustation has the same effect on tank capacity as deadwood (anything that displaces liquid inside a tank) and should be treated as such as long as it remains in the tank. The problem of deducting the volume of liquid displaced by incrustation is complicated by two of incrustation's basic and typical characteristics. First, incrustation is difficult to measure, and second, its thickness is usually variable. Some oils present no incrustation problem, but many others do, usually on a field-wide basis. The error in measurement from any one tank may be slight, but the accumulated error from an entire field or from any one tank over a period of time could be substantial. The error always has the effect of indicating too large a tank capacity; therefore, a receiving carrier cannot be expected to continually absorb the effect of these errors. The method selected to correct the error should depend upon the desired approach to accuracy of measurement.

The tables given in this RP (see Section 4) show the percent of error of measurement caused by varying thicknesses of uniform incrustation in tanks of various sizes. These tables may be used as a guide by the tank owner and the carrier to negotiate an allowance for incrustation. If it is established that incrustation is causing a substantial loss to a carrier or to any other receiver using affected tank gauges as the basis for custody transfer measurement, it is the responsibility of the tank owner to provide a tank that will permit an accurate measurement or to agree to a reasonable adjustment. The Department updated its incorporation of the Second edition of this standard into the regulations on April 28, 2010 (75 FR 22219). This update reflects a more recent reaffirmation of the standard without substantive change. BSEE proposes to update the reference of this standard in § 250.1202.

API Spec Q1, Specification for Quality Management System Requirements for Manufacturing Organizations for the Petroleum and Natural Gas Industry, Ninth Edition, June 2013; Errata, February 2014; Errata 2, March 2014; Addendum 1, June 2016 is incorporated by reference in the current § 250.198(e)(93) and will remain as previously incorporated by reference into the regulations, but will be renumbered in the proposed reorganized table as § 250.198(e)(107).

API Bulletin 2INT-DG, Interim Guidance for Design of Offshore Structures for Hurricane Conditions, May 2007 is incorporated by reference in the current § 250.198(e)(3) and will remain as previously incorporated by reference into the regulations, but will be renumbered in the proposed reorganized table as § 250.198(e)(108).

API Bulletin 2INT-EX, Interim Guidance for Assessment of Existing Offshore Structures for Hurricane Conditions, May 2007 is incorporated by reference in the current § 250.198(e)(4) and will remain as previously incorporated by reference into the regulations, but will be renumbered in the proposed reorganized table as § 250.198(e)(109).

API Bulletin 92L, Drilling Ahead Safely with Lost Circulation in the Gulf of Mexico, First Edition, August 2015 is incorporated by reference in the current § 250.198(e)(6) and will remain as previously incorporated by reference into the regulations, but will be renumbered in the proposed reorganized table as § 250.198(e)(110).

Paragraph (f)—American Society of Mechanical Engineers (ASME) Standards.

ASME Boiler and Pressure Vessel Code, Section VIII, Rules for Construction of Pressure Vessels; Division 1, 2021 Edition, July 1, 2021.

BSEE proposes to update the incorporation by reference of ASME Boiler and Pressure Vessel Code, Section VIII, Division 1, at § 250.198(f)(3) from the 2017 edition to the 2021 edition in its regulations. The 2021 Edition made changes to bring the document into conformance with more recent practice, namely overpressure protections, permitted pressure relief devices and methods, design criteria, low temperature operation, and materials considerations. This code gives detailed requirements for the design, fabrication, testing, inspection, and certification of both fired and unfired pressure vessels. It specifically refers to those pressure vessels that operate at pressures, either internal or external, that exceed 15 psig. Section VIII is divided into 3 sections, each of which covers different vessel specifications. Division 1 addresses the requirements for design, fabrication, inspection, testing, and certification. Division 1 contains appendices, some mandatory and some non-mandatory, that detail supplementary design criteria, nondestructive examination techniques, and inspection acceptance standards for pressure vessels. Division 1 also contains rules that apply to the use of the single ASME certification mark with the U, UM, and UV designators. BSEE updated the incorporation of the 2017 edition of this standard into its regulations on September 28, 2018 (83 FR 49216). BSEE proposes to update the reference of this standard in existing regulations at: §§ 250.851(a) and 250.1629(b).

Paragraph (j)—International Organization for Standardization Standards.

BSEE is only proposing changes to subparagraph (1) in paragraph (j) of § 250.198.

ISO/IEC (International Electrotechnical Commission) 17011, Conformity assessment—Requirements for accreditation bodies accrediting conformity assessment bodies, Second Edition 2017-11.

BSEE proposes to update the incorporation by reference of ISO/IEC 17011 at § 250.198(j)(1) from the 2004 First edition to the 2017 Second edition in its regulations. The Second Edition made changes to bring the document into conformance with more recent practice. This document specifies requirements for the competence, consistent operation, and impartiality of accreditation bodies assessing and accrediting conformity assessment bodies. In the context of this document, activities covered by accreditation include, but are not limited to, testing, calibration, inspection, certification of management systems, persons, products, processes and services, provision of proficiency testing, production of reference materials, validation, and verification. BSEE incorporated the First Edition of this standard into its regulations on April 5, 2013 (78 FR 20440). The second edition was revised and reorganized and an Annex A on knowledge and skills for performing accreditation activities was added. BSEE proposes to update the reference of this standard in existing regulations at: §§ 250.1900, 250.1903, 250.1904, and 250.1922.

Proposed paragraph (l)—Gas Processors Association (GPA) Standards.

BSEE proposes to add a new paragraph (l) to § 250.198 that would include three GPA Standards.

GPA Standard 2198-16—Selection, Preparation, Validation, Care and Storage of Natural Gas and Natural Gas Liquids Reference Standard Blends; Adopted as a Standard 1998; Revised August 2016; Reaffirmed 2017. (proposed § 250.198(l)(1)).

BSEE proposes to incorporate by reference for the first time GPA 2198-16, as revised in 2016 and reaffirmed in 2017, into its regulations (proposed regulatory text: § 250.198(l)(1)). This standard covers the recommended procedures for selecting the proper Natural Gas and Natural Gas Liquids Reference Standards, preparing the standards for use, verifying the accuracy of composition as reported by the manufacturer, and the proper care and storage of those standards to ensure their integrity and longevity during use. BSEE proposes to add a reference to this standard in § 250.1203(b).

GPA Standard 2261-20—Analysis for Natural Gas and Similar Gaseous Mixtures by Gas Chromatography; Adopted as a standard 1964; Revised 2020 (proposed § 250.198(l)(2)).

BSEE proposes to incorporate by reference for the first time GPA 2261-20, as revised in 2020, into its regulations (proposed regulatory text: § 250.198(l)(2)). This standard provides the gas processing industry with a method for determining the chemical composition of natural gas and similar gaseous mixtures using a Gas Chromatograph. The precision statements contained in this standard are based on the statistical analysis of round-robin laboratory data obtained by GPA Section B. This standard was developed by the cooperative efforts of many individuals from industry under the sponsorship of GPA Section B, Analysis and Test Methods. BSEE proposes to add a reference to this standard in § 250.1203(b).

GPA Standard 2286-14—Method for the Extended Analysis of Natural Gas and Similar Gaseous Mixtures by Temperature Program Gas Chromatography; Adopted as a standard 1995; Revised 2014 (proposed § 250.198(l)(3)).

BSEE proposes to incorporate by reference for the first time GPA 2286-14, as revised in 2014, into its regulations (proposed regulatory text: § 250.198(l)(3)). This standard covers the determination of the chemical composition of natural gas streams where precise physical property data of the hexanes and heavier fraction is required. This procedure is applicable for gaseous hydrocarbon mixes, which may contain nitrogen and carbon dioxide and/or hydrocarbon complexes C1 through C14 that fall within the ranges specified therein. This standard had previously seen only minor revisions since its adoption as a technical standard in 1986. The GPA revised portions of the standard that had become obsolete and that did not reflect current industry practices. In addition, the example calculations that use GPA 2145 to reflect the 2009 revision of GPA 2145 and all calculations related to those presented in GPA 2172 were removed and referenced to GPA 2172. The most significant changes to the standard involve updates to the method to maintain consistency with current technologies. BSEE proposes to add a reference to this standard in § 250.1203(b).

What additional information must I submit with my APD for Arctic OCS exploratory drilling operations? (§ 250.470)

BSEE proposes to update paragraph (g) of § 250.470 in order to update the reference from API RP 2N to ANSI/API RP 2N, to align with the title of the document as incorporated in § 250.198 paragraph (e).

What are the general requirements for BOP systems and system components? (§ 250.730)

BSEE proposes to update § 250.730(a)(2) by changing the references from ANSI/API Spec. 6A to API Specification 6A and ANSI/API Spec 17D to API Specification 17D and adding references to API Spec 20E and API Spec 20F, as described in the discussion of § 250.198 paragraph (e).

What are the requirements for a surface BOP stack? (§ 250.733)

BSEE proposes to update paragraph (b) of § 250.733 in order to update the reference from API RP 2RD to API Standard 2RD, as described in the discussion of § 250.198 paragraph (e).

What are the coiled tubing requirements? (§ 250.750)

BSEE proposes to add paragraph (c) to § 250.750 in order to require adherence to API RP 16ST, as described in the discussion of § 250.198 paragraph (e).

General. (§ 250.800)

BSEE proposes to update paragraph (c) of § 250.800 in order to update the reference from API RP 2RD to API Standard 2RD, as described in the discussion of § 250.198 paragraph (e).

Requirements for SPPE. (§ 250.802)

BSEE proposes to update paragraphs (a) and (c) of § 250.802 in order to update the references from ANSI/API Spec. 6A to API Specification 6A and from API Spec 6AV1 to API Standard 6AV1, as described in the discussion of § 250.198 paragraph (e).

What SPPE failure reporting procedures must I follow? (§ 250.803)

BSEE proposes to update paragraph (a) of § 250.803 in order to update the reference from ANSI/API Spec 6A to API Specification 6A, as described in the discussion of § 250.198 paragraph (e).

Specification for Underwater Safety Valves (USVs). (§ 250.833)

BSEE proposes to update the introductory paragraph of § 250.833 in order to update the references from ANSI/API Spec 6A to API Specification 6A and from API Spec 6AV1 to API Standard 6AV1, as described in the discussion of § 250.198 paragraph (e).

Pressure Vessels (Including Heat Exchangers) and Fired Vessels. (§ 250.851)

Subsea Gas Lift Requirements. (§ 250.873)

Subsea Water Injection Systems. (§ 250.874)

BSEE proposes to update § 250.851, § 250.873, and § 250.874 by updating the references from ANSI/ASME Boiler and Pressure Vessel Code to ASME Boiler and Pressure Vessel Code; ANSI/API Spec 6A to API Specification 6A; and API Spec 6AV1 to API Standard 6AV1, as described in the discussion of § 250.198 paragraph (e).

What industry standards must your platform meet? (§ 250.901)

BSEE proposes to revise the references in paragraphs (a) and (d) from API RP 2RD to API Standard 2RD, as described in the discussion of § 250.198 paragraph (e). BSEE also proposes to add Standards API RP 2FSIM, API RP 2GEO, API RP 2MET, API RP 2MIM, and API RP 2RIM to paragraph (a), as described in the discussion of § 250.198 paragraph (e). BSEE also proposes to add Standards API RP 2FSIM, API RP 2GEO, API RP 2MET, API RP 2SIM, API RP 2MIM, and API RP 2RIM to paragraph (d) of § 250.901, as described in the discussion of § 250.198 paragraph (e).

Design Requirements for DOI Pipelines. (§ 250.1002)

BSEE proposes to update the references from ANSI/API Spec. 6A to API Specification 6A and from API RP 2RD to API Standard 2RD in paragraph (b) of § 250.1002, as described in the discussion of § 250.198 paragraph (e).

Liquid Hydrocarbon Measurement. (§ 250.1202)

BSEE proposes to update the references to the following standards in § 250.1202(a)(2) to reflect the incorporated updates described in the discussion of § 250.198:

API MPMS, Chapter 4, Section 8 to API MPMS Chapter 4.8;

API MPMS Chapter 5, Section 8 to API MPMS Chapter 5.8; and

API MPMS Chapter 11, Section 1 to API MPMS Chapter 11.1.

BSEE proposes to add references in paragraph (a)(2) to the incorporation by reference of the following standards, as described in the discussion of § 250.198:

API MPMS Chapter 4, Section 9, Part 2;

API MPMS Chapter 5, Section 1;

API MPMS Chapter 6.1;

API MPMS Chapter 7.1;

API MPMS Chapter 7.3;

API MPMS Chapter 8.1;

API MPMS Chapter 8.2;

API MPMS Chapter 8.3;

API MPMS Chapter 9.1;

API MPMS Chapter 9.2;

API MPMS Chapter 9.4;

API MPMS Chapter 10.2;

API MPMS Chapter 10.3;

API MPMS Chapter 10.4;

API MPMS Chapter 10.9;

API MPMS Chapter 12.2;

API MPMS Chapter 20, Section 1;

API Standard 2555;

API RP 2556;

API MPMS Chapter 2.2E, Part 1;

API MPMS Chapter 2.2F, Part 2;

API MPMS Chapter 3.1A;

API MPMS Chapter 4, Section 2;

API MPMS Chapter 4.5; and

API MPMS Chapter 4, Section 7.

Because API RP 86 has been superseded by more recent standards, the existing reference to API RP 86 in paragraph (a)(2) would be removed and replaced, as described in the discussion of § 250.198.

The resulting subparagraphs of paragraph (a)(2) would be reordered and renumbered to reflect these updates.

BSEE proposes to revise the references to the following standards in paragraph (a)(3), as described in the discussion of § 250.198: API MPMS, Chapter 4, Section 8 to API MPMS, Chapter 4.8; and

API MPMS Chapter 5, Section 8 to API MPMS Chapter 5.8.

BSEE is proposing to remove references to API RP 86 (which has been superseded by more current standards) from paragraph (a)(3).

The resulting subparagraphs of paragraph (a)(3) would be reordered and renumbered to reflect these updates.

Gas Measurement. (§ 250.1203)

BSEE proposes to revise the introductory language of § 250.1203(b)(2) to clarify the requirements for adherence to the identified standards. BSEE proposes to remove the reference to API RP 86 from § 250.1203(b)(2), as that standard has been superseded.

BSEE proposes to add references to the incorporation of the following standards into § 250.1203(b)(2), as described in the discussion of § 250.198:

AGA Report No. 8, Part 1;

AGA Report No. 8, Part 2;

AGA Report No. 11;

GPA Standard 2198-16;

GPA Standard 2261-20;

GPA Standard 2286-14;

API MPMS Chapter 14.1;

API MPMS Chapter 14.3.1;

API MPMS Chapter 14.3.2;

API MPMS Chapter 14.3.3;

API MPMS Chapter 20.1;

API MPMS Chapter 20.3; and

API MPMS Chapter 20.5.

The resulting subparagraphs of paragraph (b)(2) would be reordered and renumbered to reflect these updates.

Additional Production and Fuel Gas System Requirements. (§ 250.1629)

BSEE proposes to amend § 250.1629 to change all of the references from ANSI/ASME Boiler and Pressure Vessel Code to ASME Boiler and Pressure Vessel Code throughout.

Procedural Matters

Regulatory Planning and Review (Executive Order (E.O.) 12866, 13563, and 13771)

Executive Order (E.O.) 12866, as amended by E.O. 14094, provides that the OMB Office of Information and Regulatory Affairs (OIRA) will review all significant rules. OIRA has determined that this rule is not significant.

E.O. 13563 reaffirms the principles of E.O. 12866 while calling for improvements in the Nation's regulatory system to promote predictability, to reduce uncertainty, and to use the best, most innovative, and least burdensome tools for achieving regulatory ends. E.O. 13563 directs agencies to consider regulatory approaches that reduce burdens and maintain flexibility and freedom of choice for the public where these approaches are relevant, feasible, and consistent with regulatory objectives. E.O. 13563 further emphasizes that regulations must be based on the best available science and that the rulemaking process must allow for public participation and an open exchange of ideas.

BSEE is incorporating by reference consensus standards developed by industry. Industry construes the consensus standards to be minimum requirements for safe operations. BSEE proposes to incorporate by reference 67 consensus standards in its regulations. The consensus standards are widely practiced by industry operating on the OCS. The consensus standards proposed for incorporation by reference include ten standards that have not been previously incorporated in the BSEE regulations (30 CFR part 250) and the remainder that are updates of standards that have been previously incorporated. All the consensus standards proposed for incorporation by reference have been and continue to be widely used and practiced by the offshore industry. Thus, this rule aligns the BSEE regulations with the existing industry practice. Therefore, this rule maintains the burden that industry has set for itself. BSEE has developed this rule pursuant to the requirements of E.O. 13563 to use industry standards to promote predictability, reduce uncertainty, and maintain the status quo with respect to burden.

Regulatory Flexibility Act

The Department of the Interior certifies that this proposed rule would not have a significant economic effect on a substantial number of small entities under the Regulatory Flexibility Act (5 U.S.C. 601 et seq.).

This proposed rule would affect lessees and operators of oil and gas leases on the OCS. This includes approximately 130 active Federal oil and gas lessees. Lessees that conduct business under this rule are coded under the Small Business Administration's North American Industry Classification System (NAICS) codes 211111, Crude Petroleum and Natural Gas Extraction, and 213111, Drilling Oil and Gas Wells. For these NAICS code classifications, a small company is defined as one with fewer than 500 employees. BSEE estimates that approximately 70 percent of the 130 lessees and operators that explore for and produce oil and gas on the OCS meet the definition of a small company. This rule proposes to incorporate consensus standards developed by accredited standard development organizations (SDOs) as minimum acceptable requirements. The accredited SDOs are required to develop standards with a process that is open, has balanced participation, provides due process, and has a specific appeal procedure—i.e., a multi-stakeholder process. The accredited SDOs require that all aspects of a consensus standard are fully negotiated including scope, definitions, and content. Any interested party can comment during the development process, and the comments must be fairly considered by the SDO and the commentor advised of the outcome and why—i.e., a consensus-based approach where comments from all stakeholders are considered. All the standards in this rule were developed by SDOs using this multi-stakeholder, fully negotiated, fairly considered, consensus-based approach.

BSEE understands that such a consensus-based approach leads to high voluntary conformance rates by industry participants because all parties are encouraged and allowed to participate. Consensus-building is a fundamental requirement encompassed by each standard in this rule. Industry parties are required by SDO rules to resolve substantial objections early in the standards development stage. Thus, the regulated industry has had an opportunity to adopt and adhere to each consensus, industry standard prior to the publication of the standard and since. Furthermore, many of the industry standards being incorporated in this proposed rule are either updates to existing industry standards already incorporated by reference or have been adopted, adhered to, and published for numerous years. This consensus-based process has given industry participants sufficient time to integrate the standard into their operations.

Since 2019, BSEE has made a concerted effort to work with industry and the public to understand and analyze the utility of consensus standards used by BSEE in its regulatory program. Over the past five years, three offshore standards workshops have been conducted by industry with BSEE participation, namely on January 29, 2020, March 30, 2021, and May 11, 2023. Each workshop included an analysis of the standards that BSEE uses or industry proposed BSEE use in its regulatory program. BSEE's engagement with SDOs and industry stakeholders during the SDO workshops confirmed that industry's voluntary conformance with consensus standards is high. The costs of incorporating such standards are, therefore, minimal since the high conformance rates mean the costs of adhering to the industry standard will be incurred regardless of this proposed rule and are appropriately considered to be part of the baseline. Although a few of the standards being incorporated by reference were adopted by SDOs within the last 2 years (e.g., API Specification 6A, Specification for Wellhead and Christmas Tree Equipment and API Specification 6D, Specification for Pipeline Valves, both updated in 2023), voluntary conformance with these standards was already high at the time of adoption and is believed to have been increasing based on discussions during the SDO workshops. Therefore, most of the costs of adhering to these standards are also considered to be part of the baseline, as industry will incur them regardless of this proposed rule. Thus, incorporating the standards in this rule would not have a significant economic effect on a substantial number of small companies because any costs or burdens on any lessees or operators are a product of existing consensus minimum industry performance standards promulgated with broad stakeholder engagement and broadly adopted by industry regardless of incorporation into the regulations.

Although the standards are available as read-only documents at BSEE offices and on the SDO websites, if any business wanted to own a copy, then the primary economic effect of this rule on small business would be the nominal cost associated with the purchase of the standards.

Small Business Regulatory Enforcement Fairness Act

The Small Business and Agriculture Regulatory Enforcement Ombudsman and 10 Regional Fairness Boards were established to receive comments from small businesses about Federal agency enforcement actions. The Ombudsman will annually evaluate the enforcement activities and rate each agency's responsiveness to small business. If you wish to comment on the actions of BSEE, call 1-888-734-3247. You may comment to the Small Business Administration without fear of retaliation. Allegations of discrimination/retaliation filed with the Small Business Administration will be investigated for appropriate action.

Congressional Review Act

The proposed rule is not a major rule under the Congressional Review Act. This proposed rule:

1. Would not have an annual effect on the economy of $100 million or more. The main purpose of this rule would be to add and update industry standards in the regulations to provide industry with up-to-date requirements in the use of new measurement and safety technology, consistent with existing industry practice.

2. Would not cause a major increase in costs or prices for consumers, individual industries, Federal, State, or local government agencies, or geographic regions. The cost to comply with the rule would be consistent with the status quo, as it would only require compliance with industry standards to which affected entities already generally adhere.

3. Would not have a significant adverse effect on competition, employment, investment, productivity, innovation, or ability of U.S.-based enterprises to compete with foreign-based enterprises. The requirements would apply to all entities operating on the OCS and reflect existing industry standards.

Unfunded Mandates Reform Act of 1995

This proposed rule would not impose an unfunded mandate on State, local, or tribal governments or the private sector of more than $100 million per year. The proposed rule would not have a significant or unique effect on State, local, or tribal governments or the private sector. A statement containing the information required by the Unfunded Mandates Reform Act (2 U.S.C. 1501 et seq.) is not required.

Takings Implication Assessment (E.O. 12630)

Under the criteria in E.O. 12630, this proposed rule does not have significant takings implications. The proposed rule is not a governmental action capable of interference with constitutionally protected property rights. A Takings Implication Assessment is not required.

Federalism (E.O. 13132)

Under the criteria in E.O. 13132, this proposed rule does not have federalism implications. This proposed rule would not substantially and directly affect the relationship between the Federal and State governments. To the extent that State and local governments have a role in OCS activities, this proposed rule would not affect that role. A Federalism Assessment is not required.

Civil Justice Reform (E.O. 12988)

This rule complies with the requirements of E.O. 12988. Specifically, this rule:

Meets the criteria of section 3(a) requiring that all regulations be reviewed to eliminate errors and ambiguity and be written to minimize litigation; and

Meets the criteria of section 3(b)(2) requiring that all regulations be written in clear language and contain clear legal standards.

Consultation With Indian Tribes (E.O. 13175)

BSEE strives to strengthen its government-to-government relationships with American Indian and Alaska Native Tribes through a commitment to consultation with the Tribes and recognition of their right to self-governance and Tribal sovereignty. We are also respectful of our responsibilities for consultation with Alaska Native Claims Settlement Act Corporations. We have evaluated this proposed rule under the Department's consultation policy, under Departmental Manual part 512 chapters 4 and 5, and under the criteria in E.O. 13175 and determined that it would have no substantial direct effects on federally recognized Indian Tribes.

Paperwork Reduction Act

The proposed revisions do not contain any information collection and do not require a submission to the Office of Management and Budget for review and approval under the Paperwork Reduction Act of 1995 (44 U.S.C. 3501 et seq.).

National Environmental Policy Act of 1969 (NEPA)

This rule does not constitute a major Federal action significantly affecting the quality of the human environment. A detailed statement under the National Environmental Policy Act of 1969 is not required because the rule is covered by a categorical exclusion. This rule is excluded from the requirement to prepare a detailed statement because it falls within the Departmental categorical exclusion covering “regulations . . . that are of an administrative, financial, legal, technical, or procedural nature; or whose environmental effects are too broad, speculative, or conjectural to lend themselves to meaningful analysis and will later be subject to the NEPA process, either collectively or case-by-case.” 43 CFR 46.210(i); see also 516 Departmental Manual 15.4(C)(1) (covering “[i]ssuance and modification of regulations”). We have also determined that the rule does not involve any of the extraordinary circumstances listed in 43 CFR 46.215 that would require further analysis under the National Environmental Policy Act.

Data Quality Act

In developing this rule, we did not conduct or use a study, experiment, or survey requiring peer review under the Data Quality Act (Pub. L. 106-554, app. C § 515, 114 Stat. 2763, 2763A-153-154).

Effects on the Energy Supply (E.O. 13211)

This rule is not a significant energy action under the definition in E.O. 13211. A Statement of Energy Effects is not required.

Clarity of This Regulation

We are required by E.O. 12866, E.O. 12988, and by the Presidential Memorandum of June 1, 1998, to write all rules in plain language. This means that each rule we publish must:

(1) Be logically organized;

(2) Use the active voice to address readers directly;

(3) Use clear language rather than jargon;

(4) Be divided into short sections and sentences; and

(5) Use lists and tables wherever possible.

If you feel that we have not met these requirements, send us comments by one of the methods listed in the ADDRESSES section. To better help us revise the rule, your comments should be as specific as possible. For example, you should tell us the numbers of the sections or paragraphs that you find unclear, which sections or sentences are too long, the sections where you feel lists or tables would be useful, etc.

List of Subjects in 30 CFR Part 250

Administrative practice and procedure; Continental shelf, Environmental impact statements, Environmental protection, Government contracts, Incorporation by reference, Investigations, Oil and gas exploration, Outer Continental Shelf—mineral resources, Outer Continental Shelf—rights-of-way, Penalties, Pipelines, Reporting and recordkeeping requirements, Sulfur.

Steven H. Feldgus,
Deputy Assistant Secretary, Land and Minerals Management.

For the reasons stated in the preamble, the Bureau of Safety and Environmental Enforcement (BSEE) is proposing to amend 30 CFR part 250 as follows:

PART 250—OIL AND GAS AND SULFUR OPERATIONS IN THE OUTER CONTINENTAL SHELF

1. The authority citation for part 250 continues to read as follows:

Authority: 30 U.S.C. 1751, 31 U.S.C. 9701, 33 U.S.C. 1321(j)(1)(C), 43 U.S.C. 1334.

2. Amend § 250.108 by adding paragraph (g) to read as follows:

§ 250.108 What requirements must I follow for cranes and other material-handling equipment?

* * * * *

(g) You must operate and maintain offshore cargo carrying units in accordance with API Standard 2CCU (as incorporated by reference in § 250.198).

3. Amend § 250.198 by:

a. Revising paragraphs (b)(1) through (3);

b. Adding paragraphs (b)(4) through (6);

c. Revising paragraphs (e), (f)(3), and (j)(1); and

d. Adding paragraph (l).

The revisions and additions read as follows:

§ 250.198 Documents incorporated by reference.

* * * * *

(b) * * *

(1) AGA Report No. 7—Measurement of Natural Gas by Turbine Meters, Revised February 2006; incorporated by reference at § 250.1203(b);

(2) AGA Report No. 8, Part 1, Thermodynamic Properties of Natural Gas and Related Gases Detail and Gross Equations of State, Third Edition, April 2017; incorporated by reference at § 250.1203(b).

(3) AGA Report No. 8, Part 2, Thermodynamic Properties of Natural Gas and Related Gases, GERG—2008 Equation of State, First Edition, April 2017; incorporated by reference at § 250.1203(b).

(4) AGA Report No. 9—Measurement of Gas by Multipath Ultrasonic Meters, Fourth Edition, 2022; incorporated by reference at § 250.1203(b);

(5) AGA Report No. 10—Speed of Sound in Natural Gas and Other Related Hydrocarbon Gases, Copyright 2003; incorporated by reference at § 250.1203(b);

(6) AGA Report No. 11—Measurement of Natural Gas by Coriolis Meter, Second Edition, February 2013; incorporated by reference at § 250.1203(b).

* * * * *

(e) American Petroleum Institute (API), API Recommended Practices (RP), Specs, Standards, Manual of Petroleum Measurement Standards (MPMS) chapters, 1220 L Street NW, Washington, DC 20005-4070; www.api.org; phone: 202-682-8000:

API standard title | Incorporated by reference at:
Manual of Petroleum Measurement Standards (MPMS)
Chapter 1
(1) API MPMS Chapter 1—Vocabulary, Second Edition, July 1994 | § 250.1201.
Chapter 2
(2) API MPMS Chapter 2—Tank Calibration, Section 2A—Measurement and Calibration of Upright Cylindrical Tanks by the Manual Tank Strapping Method, First Edition, February 1995; reaffirmed August 2017 | §§ 250.1202(a)(2) and (l).
(3) API MPMS Chapter 2—Tank Calibration, Section 2B—Calibration of Upright Cylindrical Tanks Using the Optical Reference Line Method, First Edition, March 1989; reaffirmed April 2019 (including Addendum 1, October 2019) | §§ 250.1202(a)(2) and (l).
(4) API MPMS Chapter 2.2E, Petroleum and Liquid Petroleum Products—Calibration of Horizontal Cylindrical Tanks, Part 1: Manual Methods, First Edition, April 2004, Reaffirmed August 2014, Errata November 2009 | § 250.1202(a).
(5) API MPMS Chapter 2.2F, Petroleum and Liquid Petroleum Products—Calibration of Horizontal Cylindrical Tanks, Part 2: Internal Electro-optical Distance-Ranging Method, First Edition, April 2004, reaffirmed September 2014 | § 250.1202(a).
Chapter 3
(6) API MPMS Chapter 3.1A, Standard Practice for the Manual Gauging of Petroleum and Petroleum Products, Third Edition, August 2013, Errata 1, January 2021 | § 250.1202(a).
(7) API MPMS Chapter 3—Tank Gauging, Section 1B—Standard Practice for Level Measurement of Liquid Hydrocarbons in Stationary Tanks by Automatic Tank Gauging, Second Edition, June 2001; reaffirmed February 2016 | §§ 250.1202(a)(2) and (l).
Chapter 4
(8) API MPMS Chapter 4—Proving Systems, Section 1—Introduction, Third Edition, February 2005; reaffirmed June 2014 | §§ 250.1202(a)(2) and (d).
(9) API MPMS Chapter 4—Proving Systems, Section 2—Displacement Provers, Third Edition, September 2003; Addendum February 2015, Reaffirmed December 2022 | § 250.1202(a).
(10) API MPMS Chapter 4—Proving Systems, Section 4—Tank Provers, Second Edition, May 1998, reaffirmed December 2020 | §§ 250.1202(a)(2) and (f).
(11) API MPMS Chapter 4.5—Master Meter Provers, Fourth Edition, June 2016 | § 250.1202(a).
(12) API MPMS Chapter 4—Proving Systems, Section 6—Pulse Interpolation, Second Edition, May 1999; Errata April 2007; reaffirmed October 2013 | §§ 250.1202(a)(2) and (h).
(13) API MPMS Chapter 4—Proving Systems, Section 7—Field Standard Test Measures, Third Edition, April 2009, reaffirmed June 2014 | § 250.1202(a).
(14) API MPMS Chapter 4.8—Operation of Proving Systems, Third Edition, July 2021 | § 250.1202.
(15) API MPMS Chapter 4, Proving Systems, Section 9—Methods of Calibration for Displacement and Volumetric Tank Provers, Part 2—Determination of the Volume of Displacement and Tank Provers by the Water-draw Method of Calibration, First Edition, December 2005; reaffirmed July 2015 | § 250.1202(a).
Chapter 5
(16) API MPMS Chapter 5—Metering, Section 1—General Considerations for Measurement by Meters, Fourth Edition, September 2005, Errata 1 June 2008, Errata 2 June 2011, reaffirmed December 2022 | § 250.1202(a).
(17) API MPMS Chapter 5—Metering, Section 2—Measurement of Liquid Hydrocarbons by Displacement Meters, Third Edition, September 2005; reaffirmed December 2020 | § 250.1202(a)(2).
(18) API MPMS Chapter 5—Metering, Section 3—Measurement of Liquid Hydrocarbons by Turbine Meters, Fifth Edition, September 2005; reaffirmed August 2014 | § 250.1202(a)(2).
(19) API MPMS Chapter 5—Metering, Section 4—Accessory Equipment for Liquid Meters, Fourth Edition, September 2005; reaffirmed August 2015 | § 250.1202(a)(2).
(20) API MPMS Chapter 5—Metering, Section 5—Fidelity and Security of Flow Measurement Pulsed-Data Transmission Systems, Second Edition, August 2005; reaffirmed August 2015 | § 250.1202(a)(2).
(21) API MPMS Chapter 5—Metering, Section 6—Measurement of Liquid Hydrocarbons by Coriolis Meters; First Edition, October 2002; reaffirmed November 2013 | § 250.1202.
(22) API MPMS Chapter 5.8—Measurement of Liquid Hydrocarbons by Ultrasonic Flow Meters, Second Edition, November 2011, Errata February 2014, reaffirmed May 2017 | § 250.1202(a).
Chapter 6
(23) API MPMS Chapter 6.1, Lease Automatic Custody Transfer (LACT) Systems, Second Edition, May 1991; Addendum 1 August 2020 | § 250.1202(a).
(24) API MPMS Chapter 6—Metering Assemblies, Section 6—Pipeline Metering Systems, Second Edition, May 1991; reaffirmed December 2017 | § 250.1202(a)(2).
(25) API MPMS Chapter 6—Metering Assemblies, Section 7—Metering Viscous Hydrocarbons, Second Edition, May 1991; reaffirmed March 2018 | § 250.1202(a)(2).
Chapter 7
(26) API MPMS Chapter 7.1—Temperature Determination-Liquid-in-Glass Thermometers, Second Edition, August 2017 | § 250.1202(a).
(27) API MPMS, Chapter 7.3—Temperature Determination—Temperature Determination-Fixed Automatic Tank Temperature Systems, Second Edition, October 2011; reaffirmed September 2021 | § 250.1202(a).
Chapter 8
(28) API MPMS, Chapter 8.1—Standard Practice for Manual Sampling of Petroleum and Petroleum Products, Sixth Edition, September 2022 | § 250.1202(a).
(29) API MPMS, Chapter 8.2—Standard Practice for Automatic Sampling of Liquid Petroleum and Petroleum Products, Sixth Edition, September 2022 | § 250.1202(a).
(30) API MPMS Chapter 8.3—Standard Practice for Mixing and Handling of Liquid Samples of Petroleum and Petroleum Products, Second Edition, September 2019 | § 250.1202(a).
Chapter 9
(31) API MPMS Chapter 9.1—Standard Test Method for Density, Relative Density, or API Gravity of Crude Petroleum and Liquid Petroleum Products by Hydrometer Method, Third Edition, December 2012, reaffirmed May 2017 | § 250.1202(a).
(32) API MPMS Chapter 9.2—Standard Test Method for Density or Relative Density of Light Hydrocarbons by Pressure Hydrometer, Fourth Edition, November 2022 | § 250.1202(a).
(33) API MPMS Chapter 9.4—Continuous Density Measurement Under Dynamic (Flowing) Conditions, First Edition, January 2018 | § 250.1202(a).
Chapter 10
(34) API MPMS Chapter 10—Sediment and Water, Section 1—Standard Test Method for Sediment in Crude Oils and Fuel Oils by the Extraction Method, Third Edition, November 2007; reaffirmed October 2012 | § 250.1202(a)(2).
(35) API MPMS Chapter 10.2—Standard Test Method for Water in Crude Oil by Distillation, Fifth Edition, December 2022 | § 250.1202(a).
(36) API MPMS Chapter 10.3—Standard Test Method for Water and Sediment in Crude Oil by the Centrifuge Method (Laboratory Procedure), Fifth Edition, December 2022 | § 250.1202(a).
(37) API MPMS Chapter 10.4—Determination of Water and/or Sediment in Crude Oil by the Centrifuge Method (Field Procedure), Fifth Edition, August 2020 | § 250.1202(a).
(38) API MPMS Chapter 10.9—Standard Test Method for Water in Crude Oils by Coulometric Karl Fisher Titration, Third Edition, May 2013, reaffirmed June 2018 | § 250.1202(a).
Chapter 11
(39) API MPMS Chapter 11—Physical Properties Data, Section 1—Temperature and Pressure Volume Correction Factors for Generalized Crude Oils, Refined Products, and Lubricating Oils, 2004 Edition, May 2004, Addendum 1, September 2007, Addendum 2, May 2019 | § 250.1202.
(40) API MPMS Chapter 11.1—Volume Correction Factors, Volume 1, Table 5A—Generalized Crude Oils and JP-4 Correction of Observed API Gravity to API Gravity at 60 °F, and Table 6A—Generalized Crude Oils and JP-4 Correction of Volume to 60 °F Against API Gravity at 60 °F, API Standard 2540, First Edition, August 1980; reaffirmed March 1997 | § 250.1202.
(41) API MPMS Chapter 11.2.2—Compressibility Factors for Hydrocarbons: 0.350-0.637 Relative Density (60 °F/60 °F) and −50 °F to 140 °F Metering Temperature, Second Edition, October 1986; reaffirmed: September 2017 | § 250.1202(a)(3).
(42) API MPMS Chapter 11—Physical Properties Data, Addendum to Section 2, Part 2—Compressibility Factors for Hydrocarbons, Correlation of Vapor Pressure for Commercial Natural Gas Liquids, First Edition, December 1994; reaffirmed, December 2002 | § 250.1202(a)(3).
Chapter 12
(43) API MPMS Chapter 12.2, Calculation of Petroleum Quantities Using Dynamic Measurement Methods and Volumetric Correction Factors, Second Edition, July 2021 | § 250.1202(a).
(44) API MPMS Chapter 12—Calculation of Petroleum Quantities, Section 2—Calculation of Petroleum Quantities Using Dynamic Measurement Methods and Volumetric Correction Factors, Part 4—Calculation of Base Prover Volumes by the Waterdraw Method, First Edition, December 1997; reaffirmed January 2022 | § 250.1202.
Chapter 14
(45) API MPMS Chapter 14.1—Collecting and Handling of Natural Gas Samples for Analysis by Gas Chromatography, Eighth Edition, September 2022 | § 250.1203(b).
(46) API MPMS Chapter 14.3.1—Orifice Metering of Natural Gas and Other Related Hydrocarbon Fluids, Concentric Square-Edged Orifice Meters, Part 1: General Equations and Uncertainty Guidelines, Fourth Edition, September 2012, Errata July 2013, Reaffirmed September 2017 | § 250.1203(b).
(47) API MPMS Chapter 14.3.2, Orifice Metering of Natural Gas and Other Related Hydrocarbon Fluids—Concentric, Square-Edged Orifice Meters, Part 2: Specification and Installation Requirements, Fifth Edition, March 2016, Errata 1, March 2017, Errata 2, January 2019, Reaffirmed January 2019 | § 250.1203(b).
(48) API MPMS 14.3.3, Orifice Metering of Natural Gas and Other Related Hydrocarbon Fluids—Concentric Square-Edged Orifice Meters, Part 3: Natural Gas Applications, Fourth Edition, November 2013, Reaffirmed June 2021 | § 250.1203(b).
(49) API MPMS, Chapter 14.5/GPA Standard 2172-09; Calculation of Gross Heating Value, Relative Density, Compressibility and Theoretical Hydrocarbon Liquid Content for Natural Gas Mixtures for Custody Transfer; Third Edition, January 2009; reaffirmed November 2020 | § 250.1203(b)(2).
(50) API MPMS Chapter 14—Natural Gas Fluids Measurement, Section 8—Liquefied Petroleum Gas Measurement, Second Edition, July 1997; reaffirmed, March 2006 | § 250.1203(b)(2).
Chapter 20
(51) API MPMS Chapter 20—Allocation Measurement, Section 1—Allocation Measurement, First Edition, September 1993; reaffirmed October 2016, Addendum 1 January 2013, Addendum 2 November 2016, Addendum 3 December 2017, Errata 1 November 2022 | § 250.1202(a) and § 250.1203(b).
(52) API MPMS, Chapter 20.3—Measurement of Multiphase Flow, First Edition, January 2013; reaffirmed, October 2018 | § 250.1203(b).
(53) API MPMS, Chapter 20.5—Recommended Practice for Application of Production Well Testing in Measurement and Allocation, First Edition, December 2017; reaffirmed, March 2023 | § 250.1203(b).
Chapter 21
(54) API MPMS Chapter 21—Flow Measurement Using Electronic Metering Systems, Section 1—Electronic Gas Measurement, First Edition, August 1993; reaffirmed, July 2005 | § 250.1203(b)(2).
(55) API MPMS Chapter 21—Flow Measurement Using Electronic Metering Systems, Section 2—Electronic Liquid Volume Measurement Using Positive Displacement and Turbine Meters; First Edition, June 1998; reaffirmed October 2016 | § 250.1202(a).
(56) API MPMS Chapter 21—Flow Measurement Using Electronic Metering Systems, Addendum to Section 2—Flow Measurement Using Electronic Metering Systems, Inferred Mass; First Edition August 2000; reaffirmed October 2016 | § 250.1202(a).
2
(57) API RP 2A-WSD, Recommended Practice for Planning, Designing and Constructing Fixed Offshore Platforms—Working Stress Design, Twenty-second Edition, November 2014; Reaffirmation, September 2020 | §§ 250.901, 250.908, 250.919, and 250.920.
(58) API Spec 2C, Specification for Offshore Pedestal Mounted Cranes, Eighth Edition, October 2020; API Monogram Program Effective Date: May 1, 2021 | § 250.108.
(59) API Standard 2CCU—Offshore Cargo Carrying Units; First Edition, August 2017 | § 250.108(g).
(60) API RP 2D, Operation and Maintenance of Offshore Cranes, Seventh Edition, December 2014; Errata August 2015, Addendum 1, October 2020 | § 250.108.
(61) API RP 2FPS, Recommended Practice for Planning, Designing, and Constructing Floating Production Systems, Second Edition, October 2011; Reaffirmed September 2020 | § 250.901.
(62) API RP 2FSIM—Floating Systems Integrity Management; First Edition, September 2019 | § 250.901.
(63) API RP 2GEO—Geotechnical and Foundation Design Considerations; First Edition, April 2011, Addendum 1, October 2014; Includes all amendments and changes through Reaffirmation Notice, January 2021 | § 250.901.
(64) API RP 2I, In-Service Inspection of Mooring Hardware for Floating Structures; Third Edition, April 2008 | §§ 250.901(a) and (d).
(65) API RP 2MET—Derivation of Metocean Design and Operating Conditions; Second Edition, January 2021; ISO 19901-1:2015 (Modified) Part 1 | § 250.901.
(66) API RP 2MIM—Mooring Integrity Management; First Edition, September 2019 | § 250.901.
(67) ANSI/API RP 2N, Third Edition, “Recommended Practice for Planning, Designing, and Constructing Structures and Pipelines for Arctic Conditions”, Third Edition, April 2015 | § 250.470(g).
(68) API Standard 2RD, Dynamic Risers for Floating Production Systems, Second Edition, September 2013, Reaffirmed September 2020 | §§ 250.733, 250.800(c), 250.901, and 250.1002(b).
(69) API RP 2RIM—Integrity Management of Risers from Floating Production Systems; First Edition, September 2019 | § 250.901.
(70) API RP 2SIM—Structural Integrity Management of Fixed Offshore Structures, First Edition, November 2014; reaffirmed September 2020 | § 250.901(d).
(71) API RP 2SK, Design and Analysis of Stationkeeping Systems for Floating Structures, Third Edition, October 2005, Addendum, May 2008, reaffirmed June 2015 | §§ 250.800(c) and 250.901(a) and (d).
(72) API RP 2SM, Recommended Practice for Design, Manufacture, Installation, and Maintenance of Synthetic Fiber Ropes for Offshore Mooring, Second Edition, July 2014; Reaffirmation, September 2020 | §§ 250.800(c) and 250.901.
(73) API RP 2T, Recommended Practice for Planning, Designing, and Constructing Tension Leg Platforms, Third Edition, July 2010, reaffirmed June 2015 | § 250.901.
6
(74) API Specification 6A, Specification for Wellhead and Christmas Tree Equipment, Twenty-First Edition, November 2018, API Monogram Program Effective Date: November 2019, Errata 1 April 2019, Errata 2 June 2020, Errata 3 September 2020, Errata 4 September 2021, Addendum 1 July 2020 (API Monogram Program Effective Date: January 2021), Addendum 2, June 2021 (API Monogram Program Effective Date: December 2021), Addendum 3, August 2022 (API Monogram Program Effective Date: February 2023) | §§ 250.730, 250.802(a), 250.803(a), 250.833, 250.873(b), 250.874(g) and 250.1002(b).
(75) API Standard 6AV1, Validation of Safety and Shutdown Valves for Sandy Service, Third Edition, July 1, 2018 | §§ 250.802(a), 250.833, 250.873(b), and 250.874(g).
(76) API STD 6AV2, Installation, Maintenance, and Repair of Surface Safety Valves and Underwater Safety Valves Offshore; First Edition, March 2014; Errata 1, August 2014 | §§ 250.820, 250.834, 250.836, and 250.880(c).
(77) API Specification 6D, Specification for Pipeline Valves, Twenty-fifth Edition November 2021, API Monogram Program Effective Date: November 2022, Errata 1 December 2021, Errata 2 April 2022, Addendum 1 April 2023 | § 250.1002(b).
11
(78) API Spec 11D1, Packers and Bridge Plugs, Second Edition, July 2009 | §§ 250.518, 250.619, and 250.1703.
14
(79) ANSI/API Spec 14A, Specification for Subsurface Safety Valve Equipment, Eleventh Edition, October 2005, reaffirmed, June 2012 | §§ 250.802 and 250.803(a).
(80) API RP 14B, Design, Installation, Operation, Test, and Redress of Subsurface Safety Valve Systems, Sixth Edition, September 2015 | §§ 250.802(b), 250.803(a), 250.814(d), 250.828(c), and 250.880(c).
(81) API RP 14C, Recommended Practice for Analysis, Design, Installation, and Testing of Basic Surface Safety Systems for Offshore Production Platforms, Seventh Edition, March 2001, reaffirmed: March 2007 | §§ 250.125(a), 250.292(j), 250.841(a), 250.842(a), 250.850, 250.852(a), 250.855, 250.856(a), 250.858(a), 250.862(e), 250.865(a), 250.867(a), 250.869(a) through (c), 250.872(a), 250.873(a), 250.874(a), 250.880(b) and (c), 250.1002(d), 250.1004(b), 250.1628(c) and (d), 250.1629(b), and 250.1630(a).
(82) API RP 14E, Recommended Practice for Design and Installation of Offshore Production Platform Piping Systems, Fifth Edition, October 1991; reaffirmed, January 2013 | §§ 250.841(b), 250.842(a), and 250.1628(b) and (d).
(83) API RP 14F, Recommended Practice for Design, Installation, and Maintenance of Electrical Systems for Fixed and Floating Offshore Petroleum Facilities for Unclassified and Class 1, Division 1 and Division 2 Locations, Upstream Segment, Fifth Edition, July 2008, reaffirmed: April 2013 | §§ 250.114(c), 250.842(c), 250.862(e), and 250.1629(b).
(84) API RP 14FZ, Recommended Practice for Design, Installation, and Maintenance of Electrical Systems for Fixed and Floating Offshore Petroleum Facilities for Unclassified and Class I, Zone 0, Zone 1 and Zone 2 Locations, Second Edition, May 2013 | §§ 250.114(c), 250.842(c), 250.862(e), and 250.1629(b).
(85) API RP 14G, Recommended Practice for Fire Prevention and Control on Fixed Open-type Offshore Production Platforms, Fourth Edition, April 2007; Reaffirmed, January 2013 | §§ 250.859(a), 250.862(e), 250.880(c), and 250.1629(b).
(86) API RP 14J, Recommended Practice for Design and Hazards Analysis for Offshore Production Facilities, Second Edition, May 2001; reaffirmed: January 2013 | §§ 250.800(b) and (c), 250.842(c), and 250.901(a) and (d).
16
(87) API Spec 16A, Specification for Drill-through Equipment, Third Edition, June 2004, reaffirmed August 2010 | § 250.730.
(88) API Spec 16C, Specification for Choke and Kill Systems, First Edition, January 1993, reaffirmed July 2010 | § 250.730.
(89) API Spec 16D, Specification for Control Systems for Drilling Well Control Equipment and Control Systems for Diverter Equipment, Second Edition, July 2004, reaffirmed August 2013 | § 250.730.
(90) API RP 16ST, Coiled Tubing Well Control Equipment Systems, Second Edition, February 2021, Addendum 1, February 2022 | § 250.750(c).
17
(91) API Specification 17D, Specification for Subsea Wellhead and Tree Equipment, Third Edition, October 2021, API Monogram Program Effective Date: October 2022, Errata 1, December 2021, Addendum 1, December 2022 | § 250.730.
(92) API RP 17H, Remotely Operated Tools and Interfaces on Subsea Production Systems, Second Edition, June 2013; Errata, January 2014 | § 250.734(a).
(93) API Spec 17J, Spec. for Unbonded Flexible Pipe, Fourth Edition, May 2014, Effective Date: November 2014, Errata 1 September 2016, Errata 2 May 2017, Addendum 1 October 2017, reaffirmed March 2021 | §§ 250.852(e), 250.1002(b), and 250.1007(a).
20
(94) API Spec 20E—Alloy and Carbon Steel Bolting for Use in the Petroleum and Natural Gas Industries, Second Edition, February 2017, Effective Date: August 2017, Addendum 1 September 2018, Addendum 2 March 2019, Errata 1 November 2021, Errata 2 May 2022 | § 250.730(a).
(95) API Spec 20F—Corrosion-resistant Bolting for Use in the Petroleum and Natural Gas Industries; Second Edition, May 2018, API Monogram Program Effective Date: November 1, 2018, Errata 1 October 2020, Addendum 1 November 2021 (API Monogram Program Effective Date: May 1, 2022) | § 250.730(a).
53
(96) API Standard 53, Blowout Prevention Equipment Systems for Drilling Wells, Fifth Edition, December 2018 | §§ 250.730, 250.734, 250.735, 250.736, 250.737, and 250.739.
65
(97) API RP 65, Recommended Practice for Cementing Shallow Water Flow Zones in Deepwater Wells, First Edition, September 2002 | § 250.415.
(98) API Standard 65—Part 2, Isolating Potential Flow Zones During Well Construction; Second Edition, December 2010 | §§ 250.415(f) and 250.420(a).
75
(99) API RP 75, Recommended Practice for Development of a Safety and Environmental Management Program for Offshore Operations and Facilities, Third Edition, May 2004, reaffirmed May 2008 | §§ 250.1900, 250.1902, 250.1903, 250.1909, 250.1920.
90
(100) API RP 90, Annular Casing Pressure Management for Offshore Wells, First Edition, August 2006 | § 250.519.
500s
(101) API RP 500, Recommended Practice for Classification of Locations for Electrical Installations at Petroleum Facilities Classified as Class I, Division 1 and Division 2, Third Edition, December 2012; Errata January 2014 | §§ 250.114(a), 250.459, 250.842(a), 250.862(a) and (e), 250.872(a), 250.1628(b) and (d), and 250.1629(b).
(102) API RP 505, Recommended Practice for Classification of Locations for Electrical Installations at Petroleum Facilities Classified as Class I, Zone 0, Zone 1, and Zone 2, First Edition, November 1997; reaffirmed, August 2013 | §§ 250.114(a), 250.459, 250.842(a), 250.862(a) and (e), 250.872(a), 250.1628(b) and (d), and 250.1629(b).
(103) API 510, Pressure Vessel Inspection Code: In-Service Inspection, Rating, Repair, and Alteration, Tenth Edition, May 2014; Addendum 1, May 2017 | §§ 250.851(a) and 250.1629(b).
(104) API 570, Piping Inspection Code: In-service Inspection, Rating, Repair, and Alteration of Piping Systems, Fourth Edition, February 2016; Addendum 1, May 2017 | § 250.841(b).
2000s
(105) API Standard 2555, Method for Liquid Calibration of Tanks, First Edition, September 1966; reaffirmed May 2014 | § 250.1202(a).
(106) API RP 2556, Recommended Practice for Correcting Gauge Tables for Incrustation, Second Edition, August 1993; reaffirmed November 2013 | § 250.1202.
Q
(107) API Spec Q1, Specification for Quality Management System Requirements for Manufacturing Organizations for the Petroleum and Natural Gas Industry, Ninth Edition, June 2013; Errata, February 2014; Errata 2, March 2014; Addendum 1, June 2016 | §§ 250.730 and 250.801(b) and (c).
API Bulletins
(108) API Bulletin 2INT-DG, Interim Guidance for Design of Offshore Structures for Hurricane Conditions, May 2007 | § 250.901.
(109) API Bulletin 2INT-EX, Interim Guidance for Assessment of Existing Offshore Structures for Hurricane Conditions, May 2007 | § 250.901.
(110) API Bulletin 92L, Drilling Ahead Safely with Lost Circulation in the Gulf of Mexico, First Edition, August 2015 | § 250.427(b).

(f) * * *

(3) ASME Boiler and Pressure Vessel Code, Section VIII, Rules for Construction of Pressure Vessels; Division 1, 2021 Edition, July 1, 2021, incorporated by reference at §§ 250.851(a) and 250.1629(b).

* * * * *

(j) * * *

(1) ISO/IEC (International Electrotechnical Commission) 17011, Conformity assessment—Requirements for accreditation bodies accrediting conformity assessment bodies, Second Edition 2017-11; incorporated by reference at §§ 250.1900, 250.1903, 250.1904, and 250.1922.

* * * * *

(l) Gas Processors Association (GPA), 6526 East 60th Street, Tulsa, Oklahoma 74145. Tel: (918) 493-3872. Fax: (918) 493-3875. Email gpa@gasprocessors.com.

(1) GPA Standard 2198-16—Selection, Preparation, Validation, Care and Storage of Natural Gas and Natural Gas Liquids Reference Standard Blends; Adopted as a Standard 1998; Revised August 2016; Reaffirmed 2017; incorporated by reference at § 250.1203(b).

(2) GPA Standard 2261-20—Analysis for Natural Gas and Similar Gaseous Mixtures by Gas Chromatography; Adopted as a standard 1964; Revised 2020; incorporated by reference at § 250.1203(b).

(3) GPA Standard 2286-14—Method for the Extended Analysis of Natural Gas and Similar Gaseous Mixtures by Temperature Program Gas Chromatography; Adopted as a standard 1995; Revised 2014; incorporated by reference at § 250.1203(b).

4. Amend § 250.470 by revising the introductory text of paragraph (g) to read as follows:

§ 250.470 What additional information must I submit with my APD for Arctic OCS exploratory drilling operations?

* * * * *

(g) Where it does not conflict with other requirements of this subpart, and except as provided in paragraphs (g)(1) through (11) of this section, you must comply with the requirements of ANSI/API RP 2N, Third Edition “Recommended Practice for Planning, Designing, and Constructing Structures and Pipelines for Arctic Conditions” (incorporated by reference as specified in § 250.198), and provide a detailed description of how you will utilize the best practices included in ANSI/API RP 2N during your exploratory drilling operations. You are not required to incorporate the following sections of ANSI/API RP 2N into your drilling operations:

* * * * *

5. Amend § 250.730 by revising paragraph (a)(2) to read as follows:

§ 250.730 What are the general requirements for BOP systems and system components?

(a) * * *

(2) The provisions of the following industry standards (all incorporated by reference in § 250.198) that apply to BOP systems:

(i) API Specification 6A;

(ii) API Spec 16A;

(iii) API Spec 16C;

(iv) API Spec 16D;

(v) API Specification 17D;

(vi) API Spec 20E; and

(vii) API Spec 20F.

* * * * *

6. Amend § 250.733 by revising the introductory text of paragraph (b)(2) to read as follows:

§ 250.733 What are the requirements for a surface BOP stack?

* * * * *

(b) * * *

(2) For risers installed after July 28, 2016, use a dual bore riser configuration before drilling or operating in any hole section or interval where hydrocarbons are, or may be, exposed to the well. The dual bore riser must meet the design requirements of API Standard 2RD (as incorporated by reference in § 250.198), including appropriate design for the maximum anticipated operating and environmental conditions.

* * * * *

7. Amend § 250.750 by adding paragraph (c) to read as follows:

§ 250.750 What are the coiled tubing requirements?

* * * * *

(c) You must follow API RP 16ST (as incorporated by reference in § 250.198).

8. Amend § 250.800 by revising paragraph (c)(2) to read as follows:

§ 250.800 General.

* * * * *

(c) * * *

(2) Meet the production riser standards of API Standard 2RD (incorporated by reference as specified in § 250.198), provided that you may not install single bore production risers from floating production facilities;

* * * * *

9. Amend § 250.802 by revising paragraphs (a) and (c)(1)(i) to read as follows:

§ 250.802 Requirements for SPPE.

(a) All SSVs, BSDVs, USVs, and GLSDVs and their actuators must meet all of the specifications contained in API Specification 6A and API Standard 6AV1 (both incorporated by reference in § 250.198).

* * * * *

(c) * * *

(1) * * *

(i) The device design must be tested by an independent test agency according to the test requirements in the appropriate standard for that device (API Standard 6AV1 or ANSI/API Spec 14A), as identified in paragraphs (a) and (b) of this section.

* * * * *

10. Amend § 250.803 by revising paragraph (a) to read as follows:

§ 250.803 What SPPE failure reporting procedures must I follow?

(a) You must follow the failure reporting requirements contained in section 10.20.7.4 of API Specification 6A for SSVs, BSDVs, GLSDVs and USVs. You must follow the failure reporting requirements contained in section 7.10 of ANSI/API Spec 14A and Annex F of API RP 14B for SSSVs (all incorporated by reference in § 250.198). Within 30 days after the discovery and identification of the failure, you must provide a written notice of equipment failure to the manufacturer of such equipment and to BSEE through the Chief, Office of Offshore Regulatory Programs, unless BSEE has designated a third party as provided in paragraph (d) of this section. A failure is any condition that prevents the equipment from meeting the functional specification or purpose.

* * * * *

11. Amend § 250.833 by revising the introductory paragraph to read as follows:

§ 250.833 Specification for underwater safety valves (USVs).

All USVs, including those designated as primary or secondary, and any alternate isolation valve (AIV) that acts as a USV, if applicable, and their actuators, must conform to the requirements specified in §§ 250.801 through 250.803. A production master or wing valve may qualify as a USV under API Specification 6A and API Standard 6AV1 (both incorporated by reference in § 250.198).

* * * * *

§§ 250.851, 250.873 and 250.874 [Amended]

12. In the table below, removing the text indicated in the left column wherever it appears in the sections, and adding the text indicated in the right column:

Remove | Add
ANSI/ASME Boiler and Pressure Vessel Code | ASME Boiler and Pressure Vessel Code.
ANSI/API Spec. 6A | API Specification 6A.
API Spec. 6AV1 | API Standard 6AV1.

13. Amend § 250.901 by:

a. Revising paragraph (a)(10);

b. Adding paragraphs (a)(25) through (29);

c. Revising paragraph (d)(19); and

d. Adding paragraphs (d)(24) through (29).

The revisions and additions read as follows:

§ 250.901 What industry standards must your platform meet?

(a) * * *

(10) API Standard 2RD, Design of Risers for Floating Production Systems (FPSs) and Tension-Leg Platforms (TLPs) (as incorporated by reference in § 250.198);

* * * * *

(25) API RP 2FSIM (as incorporated by reference in § 250.198);

(26) API RP 2GEO (as incorporated by reference in § 250.198);

(27) API RP 2MET (as incorporated by reference in § 250.198);

(28) API RP 2MIM (as incorporated by reference in § 250.198); and

(29) API RP 2RIM (as incorporated by reference in § 250.198).

* * * * *

(d) * * *

Industry standard | Applicable to . . .
* * * * * * *
(19) API Standard 2RD, Design of Risers for Floating Production Systems (FPSs) and Tension-Leg Platforms (TLPs);
* * * * * * *
(24) API RP 2FSIM, Floating Systems Integrity Management
(25) API RP 2GEO, Geotechnical and Foundation Design Considerations
(26) API RP 2MET, Derivation of Metocean Design and Operating Conditions
(27) API RP 2SIM, Structural Integrity Management of Fixed Offshore Structures
(28) API RP 2MIM, Mooring Integrity Management
(29) API RP 2RIM, Integrity Management of Risers from Floating Production Systems

14. Amend § 250.1002 by revising paragraph (b)(1), (2), and (5) to read as follows:

§ 250.1002 Design requirements for DOI pipelines.

* * * * *

(b)(1) Pipeline valves shall meet the minimum design requirements of API Specification 6A (as incorporated by reference in § 250.198), API Specification 6D (as incorporated by reference in § 250.198), or the equivalent. A valve may not be used under operating conditions that exceed the applicable pressure-temperature ratings contained in those standards.

(2) Pipeline flanges and flange accessories shall meet the minimum design requirements of ANSI/ASME B16.5, API Specification 6A, or the equivalent (as incorporated by reference in § 250.198). Each flange assembly must be able to withstand the maximum pressure at which the pipeline is to be operated and to maintain its physical and chemical properties at any temperature to which it is anticipated that it might be subjected in service.

* * * * *

(5) You must design pipeline risers for tension leg platforms and other floating platforms according to the design standards of API Standard 2RD (as incorporated by reference in § 250.198).

* * * * *

15. Amend § 250.1202 by:

a. Revising paragraphs (a)(2) and (3), (d)(5), (f)(1) and (2);

b. Adding paragraph (h)(5); and

c. Revising paragraph (l)(4).

The revisions and additions read as follows:

§ 250.1202 Liquid hydrocarbon measurement.

(a) * * *

(2) Use measurement equipment and procedures that will accurately measure the liquid hydrocarbons produced from a lease or unit to comply with the following additional API MPMS industry standards, API RP, and GPA standard:

(i) API MPMS, Chapter 2, Section 2A (incorporated by reference as specified in § 250.198);

(ii) API MPMS, Chapter 2, Section 2B (incorporated by reference as specified in § 250.198);

(iii) API MPMS, Chapter 3, Section 1B (incorporated by reference as specified in § 250.198);

(iv) API MPMS, Chapter 4, Section 1 (incorporated by reference as specified in § 250.198);

(v) API MPMS, Chapter 4, Section 4 (incorporated by reference as specified in § 250.198);

(vi) API MPMS, Chapter 4, Section 6 (incorporated by reference as specified in § 250.198);

(vii) API MPMS, Chapter 4.8 (incorporated by reference as specified in § 250.198);

(viii) API MPMS, Chapter 4, Section 9, Part 2 (incorporated by reference as specified in § 250.198);

(ix) API MPMS, Chapter 5, Section 1 (incorporated by reference as specified in § 250.198);

(x) API MPMS, Chapter 5, Section 2 (incorporated by reference as specified in § 250.198);

(xi) API MPMS, Chapter 5, Section 3 (incorporated by reference as specified in § 250.198);

(xii) API MPMS, Chapter 5, Section 4 (incorporated by reference as specified in § 250.198);

(xiii) API MPMS, Chapter 5, Section 5 (incorporated by reference as specified in § 250.198);

(xiv) API MPMS, Chapter 5, Section 6 (incorporated by reference as specified § 250.198);

(xv) API MPMS, Chapter 5.8 (incorporated by reference as specified in § 250.198);

(xvi) API MPMS, Chapter 6.1 (incorporated by reference as specified in § 250.198);

(xvii) API MPMS, Chapter 6, Section 6 (incorporated by reference as specified in § 250.198);

(xviii) API MPMS, Chapter 6, Section 7 (incorporated by reference as specified in § 250.198);

(xix) API MPMS, Chapter 7.1 (incorporated by reference as specified in § 250.198);

(xx) API MPMS, Chapter 7.3 (incorporated by reference as specified in § 250.198);

(xxi) API MPMS, Chapter 8.1 (incorporated by reference as specified in § 250.198);

(xxii) API MPMS, Chapter 8.2 (incorporated by reference as specified in § 250.198);

(xxiii) API MPMS, Chapter 8.3 (incorporated by reference as specified in § 250.198);

(xxiv) API MPMS, Chapter 9.1 (incorporated by reference as specified in § 250.198);

(xxv) API MPMS, Chapter 9.2 (incorporated by reference as specified in § 250.198);

(xxvi) API MPMS, Chapter 9.4 (incorporated by reference as specified in § 250.198);

(xxvii) API MPMS, Chapter 10, Section 1 (incorporated by reference as specified in § 250.198);

(xxviii) API MPMS, Chapter 10.2 (incorporated by reference as specified in § 250.198);

(xxix) API MPMS, Chapter 10.3 (incorporated by reference as specified in § 250.198);

(xxx) API MPMS, Chapter 10.4 (incorporated by reference as specified in § 250.198);

(xxxi) API MPMS, Chapter 10.9 (incorporated by reference as specified in § 250.198);

(xxxii) API MPMS, Chapter 11.1 (incorporated by reference as specified in § 250.198);

(xxxiii) API MPMS Chapter 12, Section 2, Part 4 (incorporated by reference as specified in § 250.198);

(xxxiv) API MPMS Chapter 12.2 (incorporated by reference as specified in § 250.198);

(xxxv) API MPMS Chapter 20, Section 1 (incorporated by reference as specified in § 250.198);

(xxxvi) API MPMS, Chapter 21, Section 2 (incorporated by reference as specified in § 250.198);

(xxxvii) API MPMS, Chapter 21, Addendum to Section 2 (incorporated by reference as specified in § 250.198);

(xxxviii) API Standard 2555 (incorporated by reference as specified in § 250.198);

(xxxix) API RP 2556 (incorporated by reference as specified in § 250.198);

(xl) API MPMS Chapter 2.2E, Part 1 (incorporated by reference as specified in § 250.198);

(xli) API MPMS Chapter 2.2F, Part 2 (incorporated by reference as specified in § 250.198);

(xlii) API MPMS Chapter 3.1A (incorporated by reference as specified in § 250.198);

(xliii) API MPMS Chapter 4, Section 2 (incorporated by reference as specified in § 250.198);

(xliv) API MPMS Chapter 4.5 (incorporated by reference as specified in § 250.198); and

(xlv) API MPMS Chapter 4, Section 7 (incorporated by reference as specified in § 250.198).

(3) Use procedures and correction factors according to the applicable chapters of the API MPMS or RP as incorporated by reference in § 250.198, including the following additional editions:

(i) API MPMS, Chapter 4.8 (incorporated by reference as specified in § 250.198);

(ii) API MPMS, Chapter 5, Section 6 (incorporated by reference as specified in § 250.198);

(iii) API MPMS, Chapter 5.8 (incorporated by reference as specified in § 250.198);

(iv) API MPMS Chapter 11, Section 1 (incorporated by reference as specified in § 250.198);

(v) API MPMS Chapter 11.2.2 (incorporated by reference as specified in § 250.198);

(vi) API MPMS Chapter 11, Section 2, Part 2 (incorporated by reference as specified in § 250.198);

(vii) API MPMS Chapter 12, Section 2, Part 4 (incorporated by reference as specified in § 250.198);

* * * * *

(d) * * *

(5) Use procedures and proving or meter factors according to API MPMS Chapter 4, Section 1 (incorporated by reference as specified in § 250.198).

* * * * *

(f) * * *

(1) Calibrate mechanical-displacement provers and tank provers at least once every 5 years according to the following API MPMS Sections:

(i) API MPMS, Chapter 4, Section 4 (incorporated by reference as specified in § 250.198);

(ii) API MPMS, Chapter 4.8 (incorporated by reference as specified in § 250.198);

(iii) API MPMS Chapter 12, Section 2, Part 4 (incorporated by reference as specified in § 250.198);

(2) Submit a copy of each calibration report to the Regional Supervisor within 15 days after the calibration.

* * * * *

(h) * * *

(5) Use procedures and proving or meter factors according to API MPMS Chapter 4, Section 6 (incorporated by reference as specified in § 250.198).

* * * * *

(l) * * *

(4) Obtain the volume and other measurement parameters by using corrections factors and procedures in the following API MPMS, as incorporated by reference in 30 CFR 250.198: API MPMS Chapter 2, Section 2A, API MPMS Chapter 2, Section 2B, API MPMS Chapter 3, Section 1B, API MPMS Chapter 11, Section 1.

16. Amend § 250.1203 by revising paragraph (b)(2) to read as follows:

§ 250.1203 Gas measurement.

* * * * *

(b) * * *

(2) Design, install, use, maintain, and test measurement equipment and procedures to ensure accurate and verifiable measurement. You must follow the recommendations in the following API MPMS, RP, GPA, and AGA as incorporated by reference in § 250.198:

(i) AGA Report No. 7 (incorporated by reference as specified in § 250.198);

(ii) AGA Report No. 8, Part 1 (incorporated by reference as specified in § 250.198);

(iii) AGA Report No. 8, Part 2 (incorporated by reference as specified in § 250.198);

(iv) AGA Report No. 9 (incorporated by reference as specified in § 250.198);

(v) AGA Report No. 10 (incorporated by reference as specified in § 250.198);

(vi) AGA Report No. 11 (incorporated by reference as specified in § 250.198);

(vii) GPA Standard 2198-16 (incorporated by reference as specified in § 250.198);

(viii) GPA Standard 2261-20 (incorporated by reference as specified in § 250.198);

(ix) GPA Standard 2286-14 (incorporated by reference as specified in § 250.198);

(x) API MPMS Chapter 14.1 (incorporated by reference as specified in § 250.198);

(xi) API MPMS Chapter 14.3.1 (incorporated by reference as specified in § 250.198);

(xii) API MPMS Chapter 14.3.2 (incorporated by reference as specified in § 250.198);

(xiii) API MPMS Chapter 14.3.3 (incorporated by reference as specified in § 250.198);

(xiv) API MPMS Chapter 14.5/GPA Standard 2172-09 (incorporated by reference as specified in § 250.198);

(xv) API MPMS Chapter 14, Section 8 (incorporated by reference as specified in § 250.198);

(xvi) API MPMS Chapter 20, Section 1 (incorporated by reference as specified in § 250.198);

(xvii) API MPMS Chapter 20.3 (incorporated by reference as specified in § 250.198); and

(xviii) API MPMS Chapter 20.5 (incorporated by reference as specified in § 250.198).

(xix) API MPMS Chapter 21, Section 1 (incorporated by reference as specified in § 250.198).

* * * * *

§ 250.1629 [Amended]

17. Amend § 250.1629, by removing the text “ANSI/ASME Boiler and Pressure Vessel Code” wherever it appears, and adding in its place, the text “ASME Boiler and Pressure Vessel Code”.

[FR Doc. 2023-25734 Filed 11-29-23; 8:45 am]

BILLING CODE 4310-84-P